DEPARTMENT OF HEALTH AND HUMAN SERVICES

Health Resources and Services Administration

Availability of Funds Announced in the HRSA Preview

AGENCY: Health Resources and Services Administration.

ACTION: General notice.

SUMMARY: HRSA announces the availability of funds in the HRSA Preview for Summer 2001. This edition of the HRSA Preview is a comprehensive review of HRSA's Fiscal Year 2002 competitive grant programs.

The purpose of the HRSA Preview is to provide the general public with a single source of program and application information related to the Agency's competitive grant offerings. The HRSA Preview is designed to replace the multiple Federal Register notices which traditionally advertised the availability of HRSA's discretionary funds for its various programs. It should be noted that additional program initiatives responsive to new or emerging issues in the health care area and unanticipated at the time of publication of the HRSA Preview may be announced through the Federal Register from time to time. Requirements appearing elsewhere in the Federal Register are not changed by this notice.

This notice contains nearly all of the content of the HRSA Preview. The HRSA Preview contains a description of competitive and other grant programs scheduled for awards in Fiscal Year 2002, and includes instructions on how to contact the Agency for information and receive application kits for all programs. Specifically, the following information is included in the HRSA Preview: (1) Program title; (2) legislative authority; (3) purpose; (4) eligibility; (5) funding priorities and/or preferences; (6) estimated dollar amount of competition; (7) estimated number of awards; (8) estimated project period; (9) Catalog of Federal Domestic Assistance (CFDA) identification number; (10) application availability date; (11) letter of intent deadline (if any); (12) application deadline; (13) projected award date; and (14) programmatic contact, with telephone and e-mail addresses. Certain other information, including how to obtain and use the HRSA Preview and grant terminology, can also be found in the HRSA Preview.

Dated: July 31, 2001.
Elizabeth M. Duke,
Acting Administrator.

This notice describes funding for the following HRSA discretionary authorities and programs (receipt deadlines are also provided):

Health Professions Programs:
Advanced Education Nursing Grants | 12/3/2001
Advanced Education Nursing—Nurse Anesthetist Traineeship Grants | 11/19/2001
Advanced Education Nursing Traineeship Grants | 11/19/2001
Basic Nurse Education and Practice Grants | 1/28/2002
Nursing Faculty Development in Geriatrics | 11/09/2001
Geriatric Nursing Knowledge and Experiences in Long Term Care Facilities for Baccalaureate Nursing Students | 11/19/2001
Nursing Workforce Diversity Grants | 12/07/2001
Health Careers Opportunity Program | 1/10/2002
Centers of Excellence | 12/03/2001
Minority Faculty Fellowship Program | 10/05/2001
Basic/Core Area Health Education Centers | 12/18/2001
Model State-Supported Area Health Education Centers | 12/18/2001
Scholarships For Disadvantaged Students | 12/17/2001
Faculty Loan Repayment Program | 5/31/2002
Special Populations Programs:
Model Interventions to Increase Organ and Tissue Donation | 6/04/2002
State Planning Grant Program | 3/01/2002
HIV/AIDS Programs:
AIDS Education and Training Centers Program | 3/15/2002
National Training and Technical Assistance Cooperative Agreement Program | 8/08/2002
Ryan White Title IV: Grants for Coordinated HIV Services and Access to Research for Children, Youth, Women, and Families | 4/01/2002
Funding for Early Intervention Services Planning and Capacity Building Grants: Competing | 5/31/2002
Special Projects of National Significance | 3/29/2002
Maternal and Child Health Programs:
Genetic Services—Evaluation of the Use of New and Evolving Technology within Newborn Screening Programs | 3/01/2002
Genetic Services—Improving Health of Children: Implementation of the State Grants for the Integration of Programs and Their Information Systems | 2/28/2002
Genetic Resources and Services Information Center | 2/28/2002
National Newborn Screening and Genetics Resource Center | 2/28/2002
National Blood Lead Proficiency Testing Program | 11/15/2001
Comprehensive Hemophilia Diagnostic and Treatment Centers | 3/01/2002
Bright Futures Grant Health Promotion/Prevention Education Center | 10/15/2001
Bright Futures Pediatric Implementation Cooperative Agreement | 10/15/2001
Oral Health Integrated Systems Development Grants | 3/08/2002
Integrated Health and Behavioral Health Care for Children, Adolescents, and their Families—Implementation Grants | 2/15/2002
Maternal and Child Health Library Services | 10/01/2001
Health Insurance for Children with Special Health Care Needs (CSHCN) | 2/15/2002
Healthy and Ready to Work (HRTW) National Center | 2/22/2002
Integrated Community Systems | 2/15/2002
Statewide Medical Home Development Grants | 11/15/2001
Partnership for Information and Communication MCH Cooperative Agreements | 2/22/2002
Partners in Program Planning for Adolescent Health | 4/22/2002
SPRANS Community-Based Abstinence Education Project Grants | 1/22/2002
National Sudden Infant Death Syndrome/Infant Death Program Support Center | 5/17/2002
Program to Enhance Performance of Sudden Infant Death Syndrome (SIDS) and Other Infant Death Initiatives | 5/17/2002
Maternal and Child Health Research Program | 8/01/2001 3/01/2002
Health Care Information and Education for Families of Children with Special Health Care Needs (CSHCN) | 1/02/2002
Public Policy Analysis and Education Center for Infant and Early Childhood Health | 2/22/2002
Graduate Medical Education: Reducing Health Status Disparities through Mentoring Training for Residents in OB/GYN, Pediatrics, and Family Practice | 10/15/2001
Long Term Training in Adolescent Health | 1/25/2002
Long Term Training in Pediatric Dentistry | 11/02/2001
Continuing Education and Development | 1/18/2002
Continuing Education/Distance Learning | 1/18/2002
Healthy Tomorrows Partnership for Children Program | 10/01/2001
Emergency Medical Services for Children Development Grants | 11/05/2001
Emergency Medical Services for Children Partnerships Demonstration Grants | 11/05/2001
Emergency Medical Services for Children Regional Symposium Supplemental Grants | 11/05/2001
Emergency Medical Services for Children Targeted Demonstration Grants | 11/05/2001
Clinical Practice Guidelines for Emergency Care of Children | 11/05/2001
National Emergency Medical Services for Children Data Analysis Resource Center (NADARC) Demonstration Grant | 11/05/2001
Trauma/EMS Program | 4/01/2002
Traumatic Brain Injury (TBI) State Implementation Grants | 12/03/2001
Traumatic Brain Injury (TBI) State Planning Grants | 12/03/2001
Traumatic Brain Injury (TBI) Post-Demonstration | 12/03/2001
Developing a System of Care to Address Family Violence During or Around the Time of Pregnancy | 1/04/2002
Rural Health Policy Programs:
Rural Health Network Development | 10/15/2001 9/21/2002
Rural Health Outreach Grant | 9/28/2001 9/13/2002
Primary Health Care Programs:
Community and Migrant Health Centers | (¹)
Health Care for the Homeless | (¹)
Public Housing Primary Care | 10/1/2001
Healthy Schools, Healthy Communities Program | (¹)
New Delivery Sites and New Starts in Programs Funded Under the Health Centers Consolidation Act | (²)
Increase in Medical Capacity in Programs Funded Under the Health Centers Consolidation Act of 1996 | 10/01/2001
Healthy Schools, Healthy Communities Planning and Capacity Development Grants | 3/20/2002
Grants to States for Loan Repayment Programs | 5/15/2002
Black Lung Clinics | (¹)
National Health Center Technical Assistance Cooperative Agreement | 10/01/2001
¹ Varies.
² Continuous.

Individuals may obtain the HRSA Preview by calling the toll free number at 1-877-477-2123 (1-877-HRSA-123). The HRSA Preview may also be accessed on HRSA's web site at http://www.hrsa.gov/grants.htm.

How To Use and Obtain Copies of the HRSA Preview

It is recommended that you read the introductory materials, terminology section, and individual program category descriptions before contacting the toll-free number: 1-877-477-2123 (1-877-HRSA-123). Likewise, we urge applicants to fully assess their eligibility for grants before requesting kits. As a general rule, no more than one kit per category will be mailed to applicants.

To Obtain a Copy of the HRSA Preview

To have your name and address added to or deleted from the HRSA Preview mailing list, call the toll free number above or send a message by e-mail to hrsagac@hrsa.gov.

To Obtain an Application Kit

Applications kits differ depending on the grant program. Determine which kit(s) you wish to receive and call 1-877-477-2123 to be placed on the mailing list. Be sure to provide the information specialist with both the CFDA number and the title of the grant program. You may also request application kits using the e-mail address above. Application kits are generally available 60 days prior to application deadline. If kits are available earlier, they will be mailed immediately. The guidance contained in the various kits contains detailed instructions, background on the grant program, and other information, such as the applicability of Executive Order 12372 and 45 CFR Part 100, and additional information pertinent to the intergovernmental review process, as appropriate.

World Wide Web Access

The HRSA Preview is available on the HRSA homepage via the World Wide Web at: http://www.hrsa.gov/grants.htm. You can download this issue in Adobe Acrobat format.

Application materials are also available for downloading for some HRSA programs. HRSA's goal is to post application forms and materials for all programs in future cycles.

You can register online to be sent grant application materials by following the instructions on the web page. Your mailing information will be added to our database and materials will be sent to you as they become available.

Grant Terminology

Application Deadlines

Applications will be considered on time if they are received on or before the established deadline, or postmarked on or before the deadline given in the program announcement or in the application kit materials. Applications sent to any address other than that specified in the application guidance are subject to being returned.

Authorization

The citation of the law authorizing the various grant programs is provided immediately following the title of the programs.

CFDA Number

The Catalog of Federal Domestic Assistance (CFDA) is a Government-wide compendium of Federal programs, projects, services, and activities which provide assistance. Programs listed therein are given a CFDA Number. Be sure to use both the CFDA number and the title of the grant program when requesting an application kit. Note that CFDA numbers with alpha suffixes have different titles than the same CFDA numbers without suffixes.

Cooperative Agreement

A financial assistance mechanism (grant) used when substantial Federal programmatic involvement with the recipient is anticipated by the funding agency during performance of the project. The nature of that involvement will always be specified in the offering or application guidance materials.

Eligibility

The status an entity must possess to be considered for a grant. Authorizing legislation and programmatic regulations specify eligibility for individual grant programs, and eligibility may be further restricted for programmatic reasons. In general, assistance is provided to nonprofit organizations and institutions, State and local governments and their agencies, and occasionally to individuals. For-profit organizations are eligible to receive awards under financial assistance programs unless specifically excluded by legislation. Under the President's initiative, faith-based organizations that are otherwise eligible and believe they can contribute to HRSA's program objectives are urged to consider these grant offerings.

Funding Availability and Estimated Amount of Competition

The funding level listed is provided only as an estimate, and is subject to the availability of funds, congressional action, and changing program priorities.

Funding Priorities and/or Preferences

Funding preferences, priorities, and special considerations may come from legislation, regulations, or HRSA program leadership decisions. They are not the same as review criteria. Funding preferences are any objective factors that would be used to place a grant application ahead of others without the preference on a list of applicants recommended for funding by a review committee. Some programs give preference to organizations which have specific capabilities such as telemedicine networking, or have established relationships with managed care organizations. Funding priorities are factors that cause a grant application to receive a fixed amount of extra rating points—which may similarly affect the order of applicants on a funding list. Special considerations are other factors considered in making funding decisions that are neither review criteria, preferences, or priorities, e.g., ensuring that there is an equitable geographic distribution of grant recipients, or meeting requirements for urban and rural proportions.

Key Offices

The Grants Management Office serves as the focal point for questions concerning business matters. In the HRSA Preview, the highlighted section at the head of each program indicates the appropriate grants management office for each program area and the main telephone number for the office.

Letter of Intent

To help in planning the application review process, many HRSA programs request a letter of intent from the applicant in advance of the application deadline. Letters of intent are neither binding nor mandatory. Details on where to send letters can be found in the guidance materials contained in the application kit.

Matching Requirements

Several HRSA programs require a matching amount, or percentage of the total project support, to come from sources other than Federal funds. Matching requirements are generally mandated in the authorizing legislation for specific categories. Also, matching or other cost-sharing requirements may be administratively required by the awarding office. Such requirements are set forth in the application kit.

Project Period

The total time for which support of a discretionary project has been programmatically approved. The project period usually consists of a series of budget periods of one-year duration. Once approved through initial review, continuation of each successive budget period is subject to satisfactory performance, availability of funds, and program priorities.

Review Criteria

The following are generic review criteria applicable to HRSA programs:

• That the estimated costs to the Government of the project are reasonable considering the level and complexity of activity and the anticipated results.

• That project personnel or prospective fellows are well qualified by training and/or experience for the support sought, and the applicant organization or the organization to provide training to a fellow have adequate facilities and manpower.

• That, insofar as practical, the proposed activities (scientific or other), if well executed, are capable of attaining project objectives.

• That the project objectives are capable of achieving the specific program objectives defined in the program announcement and the proposed results are measurable.

• That the method for evaluating proposed results includes criteria for determining the extent to which the program has achieved its stated objectives and the extent to which the accomplishment of objectives can be attributed to the program.

• That, in so far as practical, the proposed activities, when accomplished, are replicable, national in scope and include plans for broad dissemination.

The specific review criteria used to review and rank applications are included in the individual guidance material provided with the application kits. Applicants should pay strict attention to addressing these criteria, as they are the basis upon which their applications will be judged by the reviewers.

Technical Assistance

A contact person is listed for each program and his/her e-mail address and telephone number provided. Some programs have scheduled workshops and conference calls as indicated in the HRSA Preview. If you have questions concerning individual programs or the availability of technical assistance, please contact the person listed. Also check your application materials and the HRSA web site at http://www.hrsa.gov/ for the latest technical assistance information.

Frequently Asked Questions

1. Where Do I Submit Grant Applications?

The address for submitting your grant application will be shown in the guidance document included in the application kit.

2. How Do I Learn More About a Particular Grant Program?

If you want to know more about a program before you request an application kit, an e-mail/telephone contact is listed. This contact person can provide information concerning the specific program's purpose, scope and goals, and eligibility criteria. Usually, you will be encouraged to request the application kit so that you will have clear, comprehensive, and accurate information available to you. When requesting application materials, you must state the CFDA Number and title of the program. The application kit lists telephone numbers for a program expert and a grants management specialist who will provide information about your program of interest if you are unable to find the information within the written materials provided.

In general, the program contact person provides information about the specific grant offering and its purpose, and the grants management specialist provides information about the grant mechanism and business matters, though their responsibilities often overlap.

Information specialists at the toll-free number administer mailings and provide only basic information.

3. The Dates Listed in the HRSA Preview and the Dates in the Application Kit Do Not Agree. How Do I Know Which Is Correct?

HRSA Preview dates for application kit availability and application receipt deadlines are based upon the best known information at the time of publication, often nine months in advance of the competitive cycle. Occasionally, the grant cycle does not begin as projected and dates must be adjusted. The deadline date stated in your application kit is generally correct. If the application kit has been made available and subsequently the date changes, notification of the change will be mailed to known recipients of the application kit, and also posted on the HRSA home page.

4. Are Programs Announced in the HRSA Preview Ever Canceled?

Infrequently, announced programs may be withdrawn from competition. If this occurs, a cancellation notice will be provided through the HRSA Preview at the HRSA homepage at http://www.hrsa.dhhs.gov. If practicable, an attempt will be made to notify those who have requested a kit for the canceled program by mail.

If you have questions, please contact Jeanne Conley of the Grants Policy Branch at (301) 443-4972 (jconley@hrsa.gov).

Health Professions Programs

Funding Availability

The Bureau of Health Professions programs listed below are proposed in the President's Fiscal Year 2002 budget for reduction.

Health Careers Opportunity Program

Centers of Excellence

Minority Faculty Fellowship Program

Basic/Core Area Health Education Centers

Model State-Supported Area Health Education Centers

Scholarships For Disadvantaged Students

Faculty Loan Repayment Program

Kids Into Health Careers Initiative

The Bureau of Health Professions announces a new initiative to increase diversity and cultural competency of the health professions workforce. The Kids Into Health Careers initiative is designed to expand the pool of qualified and interested applicants from minority and disadvantaged populations. The Bureau encourages applicants to participate in the Kids Into Health Careers initiative by working with primary and secondary schools that have a high percentage of minority and disadvantaged students. Participation would include establishing linkages with one or more elementary, middle, or high schools with a high percentage of minority and disadvantaged students to: (1) Inform students and parents about health careers and financial aid to encourage interest in health careers; (2) promote rigorous academic course work to prepare for health professions training; or (3) provide support services such as mentoring, tutoring, counseling, after school programs, summer enrichment, and college visits.

All recipients of Bureau of Health Professions grants will receive a packet of information and guidance materials that can be used in working with local school systems. Kids Into Health Careers Initiative information may also be obtained on the Bureau of Health Professions website at http://www.hrsa.gov/bhpr/.

Advanced Education Nursing Grants 93.247

Legislative Authority: Public Health Service Act, Title VIII, Section 811, 42 U.S.C. 296j.

Purpose: Grants are awarded to eligible institutions for projects that support the enhancement of advanced nursing education and practice. For the purpose of this section, advanced education nurses means individuals trained in advanced degree programs include these: individuals in combined RN to Master's degree programs; post-nursing Master's certificate programs; or in the case of nurse midwives, in certificate programs in existence on November 12, 1998. This program will enable graduates to serve as nurse practitioners, clinical nurse specialists, nurse midwives, nurse anesthetists, nurse educators, nurse administrators, or public health nurses.

Eligibility: Eligible applicants are schools of nursing, academic health centers, and appropriate public or private nonprofit entities, as appropriate for the category of assistance under section 811.

Funding Priorities and/or Preferences: As provided in Section 805 of the Public Health Service Act, preference will be given to applicants with projects that will substantially benefit rural or underserved populations or help meet public health nursing needs in State or local health departments.

Review Criteria: Final review criteria are included in the application kit.

Estimated Amount of This Competition: $10,800,000.

Estimated Number of Awards: 43.

Estimated or Average Size of Each Award: $249,000.

Estimated Project Period: 3 years.

CFDA Number: 93.247.

Application Availability Date: July 16, 2001.

Application Deadline: December 3, 2001.

Projected Award Date: June 28, 2002.

Program Contact Person: Irene Sandvold, DrPH, CNM, RN.

Phone Number: (301) 443-6333.

E-mail: isandvold@hrsa.gov.

Advanced Education Nursing—Nurse Anesthetist Traineeship Grants 93.124

Legislative Authority: Public Health Service Act, Title VIII, Section 811, 42 U.S.C. 296j.

Purpose: Grants are awarded to eligible institutions for projects that support traineeships for licensed registered nurses enrolled as full-time students beyond the twelfth month of study in a Master's nurse anesthesia program. The traineeship program is a formula program and all eligible entities will receive awards.

Eligibility: Eligible applicants are schools of nursing, academic health centers, and other public and private nonprofit institutions which provide registered nurses with full-time nurse anesthetist education and have evidence of earned pre-accreditation or accreditation status from the American Association of Nurse Anesthetists (AANA) Council on Accreditation of Nurse Anesthesia Educational Programs.

Funding Priorities and/or Preferences: As provided in Section 805 of the Public Health Service Act, preference will be given to applicants with projects that will substantially benefit rural or underserved populations or help meet public health nursing needs in State or local health departments.

Special Considerations: A statutory special consideration, as provided for in Section 811(f)(3) of the PHS Act, will be given to eligible entities that agree to expend the award to train advanced education nurses who will practice in health professional shortage areas designated under Section 332 of the PHS Act.

Review Criteria: Final review criteria are included in the application kit.

Estimated Amount of This Competition: $1,000,000.

Estimated Number of Awards: 68.

Estimated or Average Size of Each Award: $14,000.

Estimated Project Period: 1 year.

CFDA Number: 93.124.

Application Availability Date: July 16, 2001.

Application Deadline: November 19, 2001.

Projected Award Date: March 29, 2002.

Program Contact Person: Marcia Starbecker, MSN, RN.

Phone Number: (301) 443-6193.

E-mail: mstarbecker@hrsa.gov.

Advanced Education Nursing Traineeship Grants 93.358

Legislative Authority: Public Health Service Act, Title VIII, Section 811, 42 U.S.C. 296j.

Purpose: Grants are awarded to eligible institutions to meet the cost of traineeships for individuals in advanced nursing education programs. Traineeships are awarded to individuals by participating educational institutions offering Master's and doctoral degree programs, combined RN to Master's degree programs, post-nursing Master's certificate programs, or in the case of nurse midwives, certificate programs in existence on November 12, 1998, to serve as nurse practitioners, clinical nurse specialists, nurse midwives, nurse anesthetists, nurse educators, nurse administrators or public health nurses. The traineeship program is a formula program and all eligible schools will receive awards.

Eligibility: Eligible applicants are schools of nursing, academic health centers, and other appropriate public or private nonprofit entities.

Funding Priorities and/or Preferences: As provided in Section 805 of the Public Health Service Act, preference shall be given to applicants with projects that will substantially benefit rural or underserved populations, or help meet public health nursing needs in State or local health departments.

Special Considerations: A statutory special consideration, as provided for in Section 811(f)(3) of the PHS Act, will be given to eligible entities that agree to expend the award to train advanced education nurses who will practice in health professional shortage areas designated under Section 332 of the PHS Act.

Review Criteria: Final review criteria are included in the application kit.

Estimated Amount of This Competition: $18,600,000.

Estimated Number of Awards: 316.

Estimated Project Period: 1 year.

CFDA Number: 93.358.

Application Availability Date: July 16, 2001.

Application Deadline: November 19, 2001.

Projected Award Date: March 31, 2002.

Program Contact Person: Marjorie Hamilton.

Phone Number: (301) 443-6193.

Email: mhamilton@hrsa.gov.

Basic Nurse Education and Practice Grants 93.359.

Legislative Authority: Public Health Service Act, Title VIII, Section 831, 42 U.S.C. 296p.

Purpose: Grants are awarded to enhance the educational mix and utilization of the basic nursing workforce by strengthening programs that provide basic nurse education, such as through: (1) Establishing or expanding nursing practice arrangements in noninstitutional settings to demonstrate methods to improve access to primary health care in medically underserved communities; (2) providing care for underserved populations and other high-risk groups such as the elderly, individuals with HIV/AIDS, substance abusers, the homeless, and victims of domestic violence; (3) providing managed care, quality improvement, and other skills needed to practice in existing and emerging organized health care systems; (4) developing cultural competencies among nurses; (5) expanding the enrollment in baccalaureate nursing programs; (6) promoting career mobility for nursing personnel in a variety of training settings and cross-training or specialty training among diverse population groups; or (7) providing education for informatics, including distance learning methodologies.

Eligibility: Regular eligible applicants for purposes one and five are schools of nursing. Eligible applicants for purposes two, three, four, six, and seven are schools of nursing, nursing centers, academic health centers, State or local governments, and other appropriate public or private nonprofit entities.

Funding Priorities and/or Preferences: As provided in Section 805 of the Public Health Service Act, preference will be given to applicants with projects that will substantially benefit rural or underserved populations, or help meet public health nursing needs in State or local health departments.

Special Considerations: In making awards under Purpose 1 (establishing or expanding nursing practice arrangements in noninstitutional settings to demonstrate methods to improve access to primary health care in medically underserved communities) a funding priority will be given to those schools of nursing who have not received support for Nurse Practice Arrangements under 1992 legislation or the 1998 legislation.

Review Criteria: Final review criteria are included in the application kit.

Estimated Amount of This Competition: $5,060,000.

Estimated Number of Awards: 22.

Estimated or Average Size of Each Award: $230,000.

Estimated Project Period: 3 years.

CFDA Number: 93.359.

Application Availability Date: July 16, 2001.

Application Deadline: January 28, 2002.

Projected Award Date: June 28, 2002.

Program Contact Person: Madeline Turkeltaub, PhD, CRNP, RN.

Phone Number: (301) 443-6193.

E-mail: mturkeltaub@hrsa.gov.

Nursing Faculty Development in Geriatrics 93.359B

Legislative Authority: Public Health Service Act, Title VIII, Section 831, 42 U.S.C. 296p.

Purpose: The purpose of this program is to provide support for eligible entities to provide nursing faculty development in geriatrics to strengthen the geriatric nursing didactic content and clinical components of baccalaureate and higher degree nursing education programs. Funds will be used to assist the applicant to plan, implement, and evaluate continuing education programs that will: (1) Provide knowledge and skills in core geriatric content; (2) develop specific teaching and learning resources to use in improving geriatric care education and practice; (3) promote learning communities; and (4) increase the capacity of nurses to provide effective geriatric care.

Eligibility: Eligible entities are schools of nursing, nursing centers, academic health centers, State or local governments, and other appropriate public or private nonprofit entities.

Funding Priorities or Preferences: As provided in Section 805 of the Public Health Service Act, preference will be given to applicants with projects that will substantially benefit rural or underserved populations, or help meet public health nursing needs in State or local health departments.

Review Criteria: Final review criteria are included in the application kit.

Estimated Amount of This Competition: $690,000.

Estimated Number of Awards: 3.

Estimated or Average Size of Each Award: $230,000.

Estimated Project Period: 3 years.

CFDA Number: 93.359B.

Application Availability Date: July 16, 2001.

Application Deadline: November 9, 2001.

Projected Award Date: March 30, 2002.

Program Contact Person: Patricia A. Calico, DNS, RN.

Phone Number: (301) 443-6333.

E-mail: pcalico@hrsa.gov.

Geriatric Nursing Knowledge and Experiences in Long Term Care Facilities for Baccalaureate Nursing Students 93.359A

Legislative Authority: Public Health Service Act, Title VIII, Section 831, 42 U.S.C. 296p.

Purpose: The purpose of this initiative is to assist eligible entities to strengthen the geriatric nursing didactic content and clinical components of their baccalaureate nursing program. Funds will be used to assist entities plan, implement, and evaluate a geriatric nursing experience that will expose senior nursing students to: (1) Increased course content in geriatric nursing and concepts of age-sensitive care; (2) application of this content to geriatric patients with chronic illness residing in long term care, including assisted living facilities; and (3) use of assessment skills in the setting selected in order to accurately complete appropriate assessments using standardized tools such as the Minimum Data Set (MDS) required by Medicare regulations. This project should be implemented through a planned partnership with a geriatric long-term care or assisted living facility.

Eligibility: Schools of nursing are eligible. Applications from schools of nursing with currently funded projects will not be accepted for review.

Funding Priorities and/or Preferences: As provided in Section 805 of the Public Health Service Act, preference will be given to applicants with projects that will substantially benefit rural or underserved populations, or help meet public health nursing needs in State or local health departments.

Review Criteria: Final review criteria are included in the application kit.

Estimated Amount of This Competition: $250,000.

Estimated Number of Awards: 10.

Average Size of Each Award: $25,000.

Estimated Project Period: 1 year.

CFDA Number: 93.359A.

Application Availability Date: July 16, 2001.

Application Deadline: November 19, 2001.

Projected Award Date: March 31, 2002.

Program Contact Person: Madeline Turkeltaub, PhD, CRNP, RN.

Phone Number: (301) 443-6193.

E-mail: mturkeltaub@hrsa.gov.

Nursing Workforce Diversity Grants 93.178

Legislative Authority: Public Health Service Act, Title VIII, Section 821, 42 U.S.C. 296m.

Purpose: Grants are awarded to increase nursing education opportunities for individuals from disadvantaged backgrounds (including racial and ethnic minorities underrepresented among registered nurses) by providing student scholarships or stipends, pre-entry preparation, and retention activities.

Eligibility: Eligible applicants are schools of nursing, nursing centers, academic health centers, State or local governments, and other public or private nonprofit entities.

Funding Priorities and/or Preferences: As provided in section 805 of the Public Health Service Act, preference will be given to applicants with projects that will substantially benefit rural or underserved populations, or help meet public health nursing needs in State or local health departments.

Review Criteria: Final review criteria are included in the application kit.

Estimated Amount of This Competition: $3,150,000.

Estimated Number of Awards: 14.

Estimated or Average Size of Each Award: $225,000.

Estimated Project Period: 3 years.

CFDA Number: 93.178.

Application Availability Date: July 16, 2001.

Application Deadline: December 7, 2001.

Projected Award Date: June 28, 2002.

Program Contact Person: Barbara Easterling, MS, RN.

Phone Number: (301) 443-5763.

E-mail: beasterling@hrsa.gov.

Health Careers Opportunity Program 93.822

Legislative Authority: Public Health Service Act, Title VII, Section 739, 42 U.S.C. 293c.

Purpose: The goal of the Health Careers Opportunity Program (HCOP) is to assist individuals from disadvantaged backgrounds to undertake education to enter a health profession. The HCOP program works to build diversity in the health fields by providing students from disadvantaged backgrounds an opportunity to develop the skills needed to successfully compete, enter, and graduate from health professions schools. The legislative purposes for which HCOP funds may be awarded are: (1) Identifying, recruiting, and selecting individuals from disadvantaged backgrounds for education and training in a health profession; (2) facilitating the entry of such individuals into such a school; (3) providing counseling, mentoring, or other services designed to assist such individuals to complete successfully their education at such a school; (4) providing, for a period prior to the entry of such individuals into the regular course of education of such a school, preliminary education and health research training designed to assist them to complete successfully such regular course of education at such a school, or referring such individuals to institutions providing such preliminary education; (5) publicizing existing sources of financial aid available to students in the education program of such a school or who are undertaking training necessary to qualify them to enroll in such a program; (6) paying scholarships, as the Secretary may determine, for such individuals for any period of health professions education at a health professions school; (7) paying such stipends for such individuals for any period of education in student-enhancement programs (other than regular courses), except that such a stipend may not be provided to an individual for more than 12 months; (8) carrying out programs under which such individuals gain experience regarding a career in a field of primary health care through working at facilities of public or private nonprofit community-based providers of primary health services; and (9) conducting activities to develop a larger and more competitive applicant pool through partnerships with institutions of higher education, school districts, and other community-based entities.

Eligibility: Eligible applicants include schools of medicine, osteopathic medicine, public health, dentistry, veterinary medicine, optometry, pharmacy, allied health, chiropractic, podiatric medicine, public or nonprofit private schools that offer graduate programs in behavioral and mental health, programs for the training of physician assistants, and other public or private nonprofit health or educational entities.

Funding Preferences and/or Priorities: Funding preference will be given to approved applications for programs that involve a comprehensive approach by several public or nonprofit private health or educational entities to establish, enhance, and expand educational programs that will result in the development of a competitive applicant pool of individuals from disadvantaged backgrounds who desire to pursue health professions careers. A comprehensive approach means a network of entities which are formally linked programmatically. The network must include a minimum of four entities: A health professions school, an undergraduate institution, a school district, and a community-based entity.

Review Criteria: Final review criteria are included in the application kit.

Estimated Amount of this Competition: Up to $13,752,000 is available under the President's FY 2002 Budget.

Estimated Number of Awards: 36.

Estimated or Average Size of Each Award: $367,000.

Estimated Project Period: 3 years.

CFDA Number: 93.822.

Application Availability Date: July 16, 2001.

Application Deadline: January 10, 2002.

Project Award Date: August 1, 2002.

Contact Person: CDR Sheila K. Norris.

Phone Number: (301) 443-2100.

E-mail: snorris@hrsa.gov.

Centers of Excellence 93.157

Legislative Authority: Section 736 of The Public Health Service Act, 42 U.S.C. 293.

Purpose: The goal of this program is to assist eligible schools in supporting programs of excellence in health professions education for underrepresented minority individuals. The grantee is required to use the funds awarded: (1) To develop a large competitive applicant pool through linkages with institutions of higher education, local school districts, and other community-based entities and establish an education pipeline for health professions careers; (2) to establish, strengthen, or expand programs to enhance the academic performance of underrepresented minority students attending the school; (3) to improve the capacity of such a school to train, recruit, and retain underrepresented minority faculty including the payment of stipends and fellowships; (4) to carry out activities to improve the information resources, clinical education, curricula, and cultural competence of the graduates of the school as it relates to minority health issues; (5) to facilitate faculty and student research on health issues particularly affecting underrepresented minority groups, including research on issues relating to the delivery of health care; (6) to carry out a program to train students of the school in providing health services to a significant number of underrepresented minority individuals through training provided to such students at community-based health facilities that provide such health services and are located at a site remote from the main site of the teaching facilities of the school; and (7) to provide stipends as appropriate.

Eligibility: Eligible applicants are accredited schools of allopathic medicine, osteopathic medicine, dentistry, pharmacy, graduate programs in behavioral or mental health, or other public and private nonprofit health or educational entities that meet requirements of section 736(c). Historically Black Colleges and Universities as described in section 736(c)(2)(A) and which received a contract under section 788B of the Public Health Service Act (Advanced Financial Distress Assistance) for FY 1987 may apply for Centers of Excellence (COE) grants under section 736 of the Act.

Review Criteria: Final review criteria are included in the application kit.

Estimated Amount of this Competition: up to $12,847,000 is available under the President's FY 2002 Budget.

Estimated Number of Awards: 16.

Estimated or Average Size of Each Award: $785,000.

Estimated Project Period: 3 years.

CFDA Number: 93.157.

Application Availability Date: July 16, 2001.

Application Deadline: December 3, 2001.

Project Award Date: June 28, 2002.

Program Contact Person: Karen L. Smith.

Phone Number: (301) 443-2100.

E-mail: ksmith1@hrsa.gov.

Minority Faculty Fellowship Program 93.923

Legislative Authority: Public Health Service Act, Title VII, Section 738(b), 42 U.S.C. 293b.

Purpose: The purpose of the Minority Faculty Fellowship Program is to increase the number of underrepresented minority individuals who are members of the faculty in health professions schools. Eligible applicants must demonstrate that they have or will have the ability to: (1) Identify, recruit, and select underrepresented minority individuals who have the potential for teaching, administration, or conducting research at a health professions institution; (2) provide such individuals with the skills necessary to enable them to secure a tenured faculty position at such institution, which may include training with respect to pedagogical skills, program administration, the design and conduct of research, grant writing, and the preparation of articles suitable for publication in peer reviewed journals; (3) provide services designed to assist individuals in their preparation for an academic career, including the provision of counselors; and (4) provide health services to rural or medically underserved populations.

Matching or Cost Sharing Requirement: Applicant schools must match dollar for every dollar of Federal funds received for the fellowship. Further, the applicant school must provide assurance that the school's support will be provided for the individual for the second and third years at a level equal to the total amount of Federal and school funds provided the year in which the grant or contract was awarded.

Eligibility: Eligible applicants are schools of medicine, nursing, osteopathic medicine, dentistry, pharmacy, allied health, podiatric medicine, optometry, veterinary medicine, public health, or schools offering graduate programs in behavioral and mental health.

Special Consideration: In determining awards, the Secretary will also take into consideration equity among health disciplines and geographic distribution.

Review Criteria: Final review criteria are included in the application kit.

Estimated Amount of This Competition: Up to $200,000 is available under the President's FY 2002 Budget.

Estimated Number of Awards: 3.

Estimated or Average Size of Each Award: $75,000.

Estimated Project Period: Not to exceed 3 years.

CFDA Number: 93.923.

Application Availability: July 16, 2001.

Application Deadline: October 5, 2001.

Projected Award Date: March 29, 2002.

Program Contact Person: Armando Pollack.

Phone Number: (301) 443-2100.

E-mail: apollack@hrsa.gov

Basic/Core Area Health Education Centers 93.824

Legislative Authority: Public Health Service Act, Title VII, Section 751, 42 U.S.C. 294a.

Purpose: Cooperative agreements are awarded to assist schools to improve the distribution, supply, and quality of health personnel in the health services delivery system by encouraging the regionalization of health professions schools. Emphasis is placed on community-based training of primary care oriented students, residents, and providers. The Area Health Education Centers (AHEC) program assists schools in the planning, development, and operation of AHECs to initiate education system incentives to attract and retain health care personnel in scarcity areas. By linking the academic resources of the university health sciences center with local planning, educational, and clinical resources, the AHEC program establishes a network of community-based training sites to provide educational services to students, faculty, and practitioners in underserved areas, and ultimately to improve the delivery of health care in the service area. The program embraces the goal of increasing the number of health professions graduates who ultimately will practice in underserved areas.

Federal Involvement: Substantial Federal involvement will be detailed in the application materials.

Eligibility: The types of entities eligible to apply for this program are public or private nonprofit accredited schools of medicine and osteopathic medicine and incorporated consortia made up of such schools, or the parent institutions of such schools. Also, in States in which no AHEC program is in operation, an accredited school of nursing is an eligible applicant.

Statutory Funding Preference: As provided in Section 791(a) of the Public Health Service Act, preference will be given to any qualified applicant that: (1) Has a high rate for placing graduates in practice settings having the principal focus of serving residents of medically underserved communities; or (2) during the 2-year period preceding the fiscal year for which an award is sought, has achieved a significant increase in the rate of placing graduates in such settings. This statutory general preference will only be applied to applications that rank above the 20th percentile of applications recommended for approval by the peer review group.

Funds will be awarded to approved applicants in the following order: (1) Competing continuations, (2) new starts in States with no AHEC program, (3) other new starts, and (4) competing supplementals.

Special Consideration: Special consideration will be given to qualified applicants who support the Kids Into Health Careers initiative by establishing linkages with one or more elementary, middle, or high schools with a high percentage of minority and disadvantaged students to: (1) Inform students and parents about health careers and financial aid to encourage interest in health careers; (2) promote rigorous academic course work to prepare for health professions training; or (3) provide support services such as mentoring, tutoring, counseling, after school programs, summer enrichment, and college visits. More information can be found at http://www.hrsa.gov/bhpr. Recipients of BHPr grants will receive a packet of information and guidance materials.

Review Criteria: Final review criteria are included in the application kit.

Matching Requirements: Awardees shall make available (directly through contributions from State, county or municipal government, or the private sector) non-Federal contributions in cash in an amount not less than 50 percent of the operating costs of the AHEC Program, except that the Secretary may grant a waiver for up to 75 percent of the amount required in the first 3 years in which an awardee receives funds for this program. These funds must be for the express use of the AHEC Programs and Centers to address AHEC project goals and objectives.

Estimated Amount of this Competition: Up to $3,778,000 is available under the President's FY 2002 Budget.

Estimated Number of Awards: 4.

Estimated or Average Size of Each Award: $1,000,000.

Estimated Project Period: 3 years.

Application Availability Date: July 16, 2001.

Application Deadline: December 18, 2001.

Projected Award Date: August 30, 2002.

Program Contact Person: Louis D. Coccodrilli, MPH.

Phone Number: (301) 443-6950.

E-mail: lcoccodrilli@hrsa.gov.

Model State-Supported Area Health Education Centers 93.107.

Legislative Authority: Public Health Service Act, Title VII, Section 751, 42 U.S.C. 294a.

Purpose: This program awards funds to schools to improve the distribution, supply, and quality of health personnel in the health services delivery system by encouraging the regionalization of health professions schools. Emphasis is placed on community-based training of primary care oriented students, residents, and providers. The Area Health Education Centers (AHEC) program assists schools in the development and operation of AHECs to implement educational system incentives to attract and retain health care personnel in scarcity areas. By linking the academic resources of the university health science center with local planning, educational, and clinical resources, the AHEC program establishes a network of health-related institutions to provide educational services to students, faculty, and practitioners, and ultimately to improve the delivery of health care in the service area. These programs are collaborative partnerships which address current health workforce needs within a region of a State or in an entire State.

Matching or Cost Sharing Requirements: Awardees shall make available (directly or through contributions from State, county or municipal governments, or the private sector) recurring non-Federal contributions in cash in an amount not less than 50 percent of the operating costs of the Model State-Supported AHEC program.

Eligibility: The entities eligible to apply for this program are public or private nonprofit accredited schools of medicine and osteopathic medicine and incorporated consortia made up of such schools or the parent institutions of such schools. Applicants must have previously received funds, but are no longer receiving funds under Section 751(a)(1) of the Public Health Service Act, and be operating an AHEC program.

Statutory Funding Preference: As provided in Section 791(a) of the Public Health Service Act, preference will be given to any qualified applicant that: (1) Has a high rate for placing graduates in practice settings having the principal focus of serving residents of medically underserved communities; or (2) during the 2-year period preceding the fiscal year for which an award is sought, has achieved a significant increase in the rate of placing graduates in such settings. This statutory general preference will only be applied to applications that rank above the 20th percentile of applications recommended for approval by the peer review group.

Funds will be awarded to approved applications in the following order: (1) Competing continuations, (2) new starts in States with no current AHEC program, (3) other new starts, and (4) competing supplementals.

Special Consideration: Special consideration will be given to qualified applicants who support the Kids Into Health Careers initiative by establishing linkages with one or more elementary, middle, or high schools with a high percentage of minority and disadvantaged students to: (1) Inform students and parents about health careers and financial aid to encourage interest in health careers; (2) promote rigorous academic course work to prepare for health professions training; or (3) provide support services such as mentoring, tutoring, counseling, after school programs, summer enrichment, and college visits. More information can be found at http://www.hrsa.gov/bhpr. Recipients of BHPr grants will receive a packet of information and guidance materials.

Review Criteria: Final review criteria are included in the application kit.

Estimated Amount of this Competition: Up to $3,788,000 is available under the President's FY 2002 Budget.

Estimated Number of Awards: 5.

Estimated or Average Size of Each Award: $650,000.

Estimated Project Period: 3 years.

CFDA Number: 93.107.

Application Availability Date: July 16, 2001.

Application Deadline: December 18, 2001.

Projected Award Date: August 30, 2002.

Program Contact Person: Louis D. Coccodrilli, MPH.

Phone Number: (301) 443-6950.

E-mail: lcoccodrilli@hrsa.gov.

Scholarships For Disadvantaged Students 93.925

Legislative Authority: Public Health Service Act, Title VII, Section 737, 42 U.S.C. 293a.

Purpose: The Scholarships for Disadvantaged Students (SDS) program contributes to the diversity of the health professions students and practitioners. The program provides funding to eligible health professions and nursing schools to be used for scholarships to students from disadvantaged backgrounds who have financial need for scholarships and are enrolled, or accepted for enrollment, as full-time students at the eligible schools.

Eligibility: The following entities are eligible to apply for this program: (1) Dchools of allopathic medicine, osteopathic medicine, dentistry, optometry, pharmacy, podiatric medicine, veterinary medicine, public health, nursing, chiropractic, or allied health, graduate programs in behavioral and mental health practice, or an entity providing programs for the training of physician assistants; and (2) schools with a program for recruiting and retaining students from disadvantaged backgrounds, including students who are members of racial and ethnic minority groups.

Funding Priorities and/or Preferences: An applicant must agree to give preference in providing scholarships to students for whom the costs of attending the schools would constitute a severe financial hardship and to former recipients of Exceptional Financial Need and Financial Assistance for Disadvantaged Health Professions Students Scholarships, former section 736 and 740(d)(2)(B).

A priority will be given to eligible entities that are health professions and nursing schools based on the proportion of graduating students going into primary care, the proportion of underrepresented minority students, and the proportion of graduates working in medically underserved communities.

Review Criteria: Final review criteria are included in the application kit.

Estimated Amount of This Competition: Up to $18,657,000 is available under the President's FY 2002 Budget.

Estimated Number of Awards: 200.

Estimated or Average Size of Each Award: $93,255.

Estimated Project Period: 1 year.

CFDA Number: 93.925.

Application Availability Date: November 1, 2001.

Application Deadline: December 17, 2001.

Projected Award Date: March 15, 2002.

Program Contact Person: Andrea Castle, Pam Wellens.

Phone Number: (301) 443-1701, 301-443-5168.

E-mail: dpolicy@hrsa.gov.

Faculty Loan Repayment Program 93.923

Legislative Authority: Public Health Service Act, Title VII, section 738(a), 42 U.S.C. 293b.

Purpose: The Faculty Loan Repayment Program (FLRP) provides a financial incentive for degree-trained health professions personnel from disadvantaged backgrounds to pursue an academic career. The individuals agree to serve as members of the faculties of health professions schools providing teaching services for a minimum of 2 years. The Federal Government in turn agrees to pay, for each year of service, as much as $20,000 of the outstanding principal and interest on the individual's education loans.

Matching or Cost Sharing Requirement: The school which has entered into a contractual agreement with a recipient is required, for each year in which the recipient serves as a faculty member under contract with HHS, to make payments of principal and interest in an amount equal to the amount of such quarterly payments made by the HHS Secretary. The payments must be in addition to the faculty salary the recipient would ordinarily receive or the school must request a waiver of its share of cost. The Secretary may waive the school's matching requirement if the Secretary determines it will impose an undue financial hardship on the school. The school must provide supporting documentation such as audit report, budget report, etc. Employment is documented by a copy of the employment contract or the employer letter of intent.

Eligibility: An individual is eligible to apply for loan repayment under FLRP if the individual is from a disadvantaged background, holds a health professions degree, is enrolled in an approved health professions graduate program, or will be enrolled as a full-time student in the final year of health professions training that leads to a degree in one of the following health professions: allopathic medicine, osteopathic medicine, podiatric medicine, veterinary medicine, dentistry, pharmacy, optometry, nursing, public health, dental hygiene, medical laboratory technology, occupational therapy, physical therapy, radiologic technology, speech pathology, audiology, medical nutrition therapy and graduate programs in behavioral health and mental health practice, clinical psychology, clinical social work, and marriage and family therapy.

Funding Priorities and/or Preferences: Preference will be given to applicants who have not previously held a faculty position; been out of school less than 5 years; not previously participated in FLRP; received from the employing institution a commitment to match FLRP funds; and who contribute to geographic distribution across the country and represent diverse health professions disciplines.

Review Criteria: Final review criteria are included in the application kit.

Estimated Amount of This Competition: Up to $357,000 is available under the President's FY 2002 Budget.

Estimated Number of Awards: 11.

Estimated or Average Size of Each Award: $35,000.

Estimated Project Period: Not less than 2 years.

CFDA Number: 93.923.

Application Availability Date: March 1, 2002.

Application Deadline: May 31, 2002.

Projected Award Date: September 1, 2002.

Program Contact Person: Lorraine Evans.

Phone Number: (301) 443-0785.

Internet Address: http://bhpr.hrsa.gov/dsa/flrp.

Special Populations Programs

Model Interventions to Increase Organ and Tissue Donation 93.134

Legislative Authority: Public Health Service Act, 42 U.S.C. 273(a)(3).

Purpose: The purpose of this program is to assist in the evaluation or implementation of highly promising strategies that can serve as model interventions for increasing organ and tissue donation. Interventions must be (1) effective in producing a verifiable and demonstrable impact on donation, (2) replicable, (3) transferable, (4) feasible in practice, and (5) must have rigorous methodology and evaluation components. Applications may propose single-site pilot projects or replications of interventions already shown to be effective in a pilot study.

Eligibility: An applicant organization must be a Federally-designated organ procurement organization or other private not-for-profit organization/institution, and be part of a consortium consisting of at least one transplant-related organization and one organization/institution with demonstrated research experience and expertise.

Review Criteria: Final review criteria are included in the application kit.

Estimated Amount of This Competition: $6,000,000.

Estimated Number of Awards: 28.

Estimated or Average Size of Each Award: $215,000.

Estimated Project Period: 3 years.

CFDA Number: 93.134.

Application Availability Date: January 31, 2002.

Letter of Intent Deadline: May 1, 2002.

Application Deadline: June 4, 2002.

Projected Award Date: September 30, 2002.

Program Contact Person: Mary L. Ganikos, PhD.

Phone Number: (301) 443-7577.

E-mail: mganikos@hrsa.gov.

State Planning Grant Program 93.256

Legislative Authority: PHS Act, Section 301.

Purpose: The purpose of this program is to ensure that every citizen in every State has access to affordable health insurance benefits similar in scope to the Federal Employees Health Benefit Plan, Medicaid, benefits offered to State employees, or other similar quality benchmarks. Each State grantee is to develop a plan or propose options to meet this objective.

Eligibility: The Governor of each State or territory which has not previously received a State Planning Grant is invited to apply. The Governor can designate an individual or agency authorized to prepare the State's application on behalf of the State. Only a State entity can be the official recipient of a grant. Only one application per State is permitted.

Funding Priorities and/or Preferences: Preference will be given to States with a low level of uninsured or the ability to significantly decrease a relatively high level of uninsured.

Review Criteria: Final review criteria are included in the application kit.

Estimated Amount of This Competition: $13 million.

Estimated Number of Awards: Up to 10 State grants.

Estimated Size of Each Award: $1.3 million.

Estimated Project Period: 1 year

CFDA Number: 93.256.

Application Availability Date: December 1, 2001.

Application Deadline: March 1, 2002.

Projected Award Date: July 1, 2002.

Program Contact Person: Joyce G. Somsak.

Phone Number: (301) 443-0938.

E-mail: jsomsak@hrsa.gov.

HIV/AIDS Programs

AIDS Education and Training Centers Program 93.145

Legislative Authority: Public Health Service Act As Amended by Public Law 104-146 Ryan White CARE Act of 1990 as Amended by the Ryan White CARE Act Amendments of 1996, 2000.

Purpose: The purpose of this grant program is to improve the quality of HIV/AIDS clinical care through the training of health professionals. The program includes both regional AIDS Education and Training Centers (AETCs) which provide HIV/AIDS clinical training within a defined region, as well as national centers, including but not limited to, the National Resource AETC and the National Minority AETC. Applicants for the regional AETCs must demonstrate the ability to provide expert clinical HIV/AIDS care training, information dissemination, and other information support to health professionals in a defined geographic region. National Centers serve to enhance the work of the regional AETCs through expert support in specified areas. The National Resource AETC serves as a resource for HIV/AIDS training materials and rapid dissemination of information. The National Minority AETC fosters HIV/AIDS care capacity through training in minority institutions including Historically Black Colleges and Universities, Hispanic Serving Institutions, and Tribal Colleges.

Eligibility: Grants may be awarded to public and nonprofit private entities and schools and academic health sciences centers that can provide expert HIV/AIDS clinical care training to medical professionals.

Funding Priorities or Preferences: Applicants with ability to provide expert clinical training to medical professionals in underserved regions are given special priority.

Special Considerations: The AIDS Education and Training Centers provides national coverage of training through its regional centers. The regions are not predefined, but only one AETC will be funded for each state or region.

Estimated Amount of This Competition: $29,000,000.

Estimated Number of Awards: 18.

Estimated or Average Size of Each Award: $1,200,000.

Estimated Project Period: 3 years.

CFDA Number: 93.145.

Application Availability Date: January 2, 2002.

Letter of Intent Deadline: February 1, 2002.

Application Deadline: March 15, 2002.

Projected Award Date: July 1, 2002.

Program Contact Person: Laura W. Cheever, MD.

Phone Number: (301) 443-3067.

E-mail: lcheever@hrsa.gov.

National Training and Technical Assistance Cooperative Agreement Program 93.145A

Legislative Authority: Title XXVI, Part F of the Public Health Service Act [Title 42, USC] as amended by Public Law 106-345 the Ryan White Care Act Amendments of 2000 (dated October 20, 2000).

Purpose: This grant program is designed to transfer knowledge and provide practical help to grantees, providers, planning bodies, and other constituents in their work with CARE Act-funded programs through cooperative agreements. All cooperative agreements will focus on the information and technical assistance needs of programs addressing the needs of HIV-infected women, children, and their families. Training and technical assistance (TA) will be provided to a diverse group of individuals, including administrative and direct service staff of State/local AIDS programs, State/local health departments, CARE Act grantees and their subcontractors, other AIDS service organizations and community-based organizations, members of CARE Act planning bodies, and consumers.

The cooperative agreements will address the various informational and technical needs through the following general areas: Providing specific training and TA on various fiscal and programmatic topics; promoting best practices for the provision of high quality HIV related services; developing and disseminating publications; and providing opportunities for increased communication and collaboration.

Federal Involvement: Substantial Federal involvement will be detailed in the application materials.

Eligibility: Eligible applicants are public or private nonprofit organizations with: (1) A service mission to address the needs of children, youth, and women that are living with HIV/AIDS, and (2) a national or regional constituency currently receiving HIV-related information or assistance.

Funding Priorities and/or Preferences: Preference will be given to organizations who can demonstrate familiarity with Ryan White CARE Act programs, especially Title IV programs. Preference will also be given to organizations that have worked directly with CARE Act programs in the last 3 years.

Review Criteria: Final review criteria are included in the application kit.

Estimated Amount of This Competition: $1,000,000.

Estimated Number of Awards: 3.

Estimated or Average Size of Each Award: $330,000.

Estimated Project Period: 3 years.

CFDA Number: 93.145A.

Application Availability Date: June 7, 2002.

Application Deadline: August 8, 2002.

Projected Award Date: September 27, 2002.

Program Contact Person: Rene Sterling.

Phone Number: (301) 443-7778.

E-mail: rsterling@hrsa.gov.

Ryan White Title IV: Grants for Coordinated HIV Services and Access to Research for Children, Youth, Women, and Families 93.153A

Legislative Authority: PHS Act, Public Law 106-345, Ryan White Comprehensive AIDS Resources Emergency Act Amendments of 2000.

Purpose: The purpose of the Title IV funding is to improve access to primary medical care, research, and support services for HIV-infected children, youth, and women, and to provide support services for their affected family members. Funded projects will link clinical research and other research with comprehensive care systems, and improve and expand the coordination of a system of comprehensive care for children, youth, and women who are HIV-infected. Funds will be used to support programs that: (1) Cross established systems of care to coordinate service delivery, HIV prevention efforts, and clinical research and other research activities; and (2) address the intensity of service needs, high costs, and other complex barriers to comprehensive care and research experienced by medically underserved and hard-to-reach populations. Activities under these grants should address the goals of enrolling and maintaining clients in HIV primary care; increasing client access to research by linking development and support of comprehensive, community-based and family-centered care infrastructures; and emphasizing prevention within the care system, particularly the prevention of perinatal HIV transmission.

Eligibility: Eligible organizations are public or private nonprofit entities that provide or arrange for primary care. Applicants are limited to currently funded Title IV programs whose project periods expire in FY 2002 and new organizations proposing to serve the same populations currently being served by these existing projects. These are the areas:

State—Areas

AL—Birmingham, Montgomery and surrounding counties

AR—Pine Bluff and Northeast Arkansas

CA—San Diego and Fresno

CT—Hartford, New Haven, and Fairfield

DC—Citywide

FL—City of Orlando, Orange and surrounding counties, and West Palm Beach

LA—Baton Rouge

MD—Baltimore and Prince Georges Counties

MI—Detroit and surrounding counties

NC—Asheville and Charlotte

NH—Statewide and Southeast Vermont

NY—Elmhurst, Queens, Lower Manhattan and Staten Island, and Stony Brook

PA—Philadelphia

SC—Statewide

Funding Priorities and/or Preferences: Preference for funding will be given to projects that support a comprehensive, coordinated system of HIV care serving HIV-infected children, youth, women, and their families, and are linked with or have initiated activities to link with clinical trials or other research.

Review Criteria: Final review criteria are included in the application kit.

Estimated Amount of This Competition: $14,000,000.

Estimated Number of Awards: 20.

Estimated or Average Size of Each Award: $700,000.

Estimated Project Period: 3 years.

CFDA Number: 93.153A.

Application Availability Date: December 19, 2001.

Application Deadline: April 1, 2002.

Projected Award Date: August 1, 2002.

Program Contact Person: Jose Raphael Morales, MD.

Phone Number: (301) 443-9051.

E-mail: jmorales@hrsa.gov.

Funding for Early Intervention Services Planning and Capacity Building Grants 93.918C

Legislative Authority: PHS Act, Public Law 106-345, Ryan White Comprehensive AIDS Resources Emergency Act Amendments of 2000.

Purpose: The purpose of this grant program is to support public and nonprofit entities in their efforts to plan and expand their efforts to provide high quality and broad scope of primary HIV health care services to rural or underserved communities. Planning grants support the planning process and does not fund any service delivery or patient care. Proposed capacity building activities must lead to or expand HIV primary care services.

Eligibility: Eligible applicants must be public or nonprofit private entities that are, or intend to become, eligible to apply for the Title III Early Intervention Services grant. Current Ryan White CARE Act grant recipients (or subcontractors under Title I or II), including Title III providers, are eligible for a capacity building grant.

Funding Priorities and/or Preferences: In awarding these grants, preference will be given to applicants located in rural or underserved areas where emerging or ongoing HIV primary health care needs have not been adequately met.

Review Criteria: Final review criteria are included in the application kit.

Estimated Amount of This Competition: $9,295,000.

Estimated Number of Awards: 135.

Estimated or Average Size of Each Award: Up to $150,000.

Estimated Project Period: 1 to 2 years.

CFDA Number: 93.918; 93.918C.

Application Availability Date: February 1, 2002.

Application Deadline: May 31, 2002.

Projected Award Date: August 30, 2002.

Program Contact Person: Andrew Kruzich.

Phone Number: (301) 443-0759.

E-mail: akruzich@hrsa.gov.

Special Projects of National Significance 93.928

Legislative Authority: PHS, Public Law 104-146, Ryan White Comprehensive AIDS Resources Emergency Act Amendments of 2000, Section 2691, Special Projects of National Significance.

Purpose: This funding initiative will support American Indian/Alaska Native communities in their efforts to increase access to primary care for American Indian/Alaska Native individuals who are living with HIV/AIDS or at risk of HIV infection. Applications must include plans for the integration of existing substance abuse treatment/services (drug and/or alcohol) and/or mental health services with HIV primary care services. The plan must also include community outreach, HIV testing and counseling, education on risk reduction, and client follow-up. The application must also include a local program evaluation plan. An American Indian/Alaska Native Technical Assistance Center will also be established under this initiative to work with the funded projects.

Eligibility: Eligible applicants are public, nonprofit private, or tribal entities that have experience in the coordination, delivery, or provision of substance abuse services/treatment or mental health care services and primary care services to American Indians/Alaska Natives living with or at risk of HIV infection. Applicants applying as the Technical Assistance Center are considered eligible if they are public, nonprofit private, or tribal entities and have experience in working with the American Indian/Alaska Native community.

Funding Priorities and/or Preferences: In awarding these grants, preference will be given to applicants who address the health care needs of American Indians/Alaska Natives who are HIV-positive or at risk for infection, and have histories of substance abuse, as well as other contributing factors such as mental illness or sexually transmitted diseases. Under the Technical Assistance Center category, preference will be given to entities that can demonstrate their ability to work effectively with the American Indian/Alaska Native community.

Review Criteria: Final review criteria are included in the application kit.

Estimated Amount of This Competition: $1,500,000.

Estimated Number of Awards: 6.

Estimated or Average Size of Each Award: 5 sites @ $200,000; 1 Technical Assistance Center @ $400,000.

Estimated Project Period: 5 years.

CFDA Number: 93.928.

Application Availability Date: January 7, 2002.

Letter of Intent Deadline: February 1, 2002.

Application Deadline: March 29, 2002.

Projected Award Date: June 1, 2002.

Program Contact Person: Barbara Aranda-Naranjo, PhD, RN, FAAN.

Phone Number: (301) 443-4149.

E-mail: baranda-naranjo@hrsa.gov.

Maternal and Child Health Programs

Genetic Services—Evaluation of the Use of New and Evolving Technology within Newborn Screening Programs 93.110A

Legislative Authority: Social Security Act, Title V, 42 U.S.C. 701.

Purpose: The purpose of this grant activity is to fund one project that will address issues confronting newborn genetic screening programs that have emerged from the use of new and evolving technologies such as DNA-based and tandem mass technology within these newborn screening programs. The project will identify models and materials for addressing the clinical validity and utility of these new technologies within such programs. The project must also address the assurance of informed consent, patient privacy rights, and protection against discrimination. It is proposed that the project utilize the recommendations developed by the Newborn Screening Task Force, Serving the Family: From Birth to the Medical Home, Newborn Screening: A Blueprint for the Future: Recommendations from the Newborn Screening Task Force. It is expected that the project will develop models and materials for the Genetic Services Branch grantees and for state MCH newborn genetic screening programs.

Eligibility: As cited in 42 CFR Part 51a.3 (b), only public or nonprofit institutions of higher learning and public or private nonprofit agencies engaged in research or in programs relating to maternal and child health and/or services for children with special health care needs may apply for grants, contracts or cooperative agreements for research in maternal and child health services or in services for children with special health care needs.

Funding Priorities and/or Preferences: Preference will be given to a State Public Health Agency in partnership with academic institutions and coalitions/organizations that represent public and private community-based providers and consumer organizations and industry.

Review Criteria: Final review criteria are included in the application kit.

Estimated Amount of This Competition: $300,000.

Estimated Number of Awards: 1.

Estimated Project Period: 3 years.

Application Availability Date: December 14, 2001.

Letter of Intent Deadline: January 14, 2002.

Application Deadline: March 1, 2002.

Projected Award Date: August 1, 2002.

Program Contact Person: Marie Mann, MD, MPH.

Phone Number: (301) 443-1080.

E-mail: mmann@hrsa.gov.

Genetic Services—Improving Health of Children: Implementation of the State Grants for the Integration of Programs and Their Information Systems 93.110A

Legislative Authority: Social Security Act, Title V, 42 U.S.C. 701.

Purpose: The purpose of this grant activity is to provide support for implementation activities to grantees who participated in the FY 1999, 2000, and 2001 Genetic Service Branch's State planning and development grants for Newborn Screening Efforts and Infrastructure Development. Specifically, the grant activity is to facilitate the integration of newborn genetic screening programs into State systems of care for children with special health care needs. States funded by this initiative must build on their planning grant activity for newborn genetic screening integration and address the technical obstacles, legal barriers, partnerships required for the initiative, sustainability of the projects beyond Federal funding, and a plan for program evaluation.

Eligibility: Eligibility is limited to previous grantees who participated in the FY 1999, 2000, and 2001 Genetic Service Branch's State planning and development grants for Newborn Screening Efforts and Infrastructure Development.

Funding Priorities and/or Preferences: Preference will be given to State health agencies that have previously received funding from the Genetic Services Branch to develop a State plan for State newborn screening efforts and infrastructure development.

Review Criteria: Final review criteria are included in the application kit.

Estimated Amount of this Competition: $2,100,000.

Estimated Number of Awards: 7.

Estimated or Average Size of Each Award: $300,000.

Estimated Project Period: 4 years.

CFDA Number: 93.110A.

Application Availability Date: December 14, 2001.

Letter of Intent Deadline: January 15, 2002.

Application Deadline: February 28, 2002.

Project Award Date: June 1, 2002.

Program Contact Person: Deborah Linzer, MS.

Phone Number: (301) 443-1080.

E-mail: dlinzer@hrsa.gov.

Genetic Resources and Services Information Center 93.110A

Legislative Authority: Social Security Act, Title V, 42 U.S.C. 701.

Purpose: This competition will fund a cooperative agreement to a national genetics consumer organization to work on consumer issues related to genetics. The national organization will:

• Serve as a forum for emergent consumer groups and consumers to promote genetics literacy;

• Serve as a forum for the family services community and other consumer organizations to promote genetics literacy;

• Provide a mechanism to evaluate issues pertinent to the provision of genetic services, such as transition to adult services for adolescents with genetic disorders, payment for treatment and therapies, workplace discrimination, quality genetic services, understanding genetic diversity, and shared-decision making; and

• Outline national policy issues related to improving the quality, accessibility, and utilization of genetic services at the National, State, and community level.

The successful applicant will have demonstrated partnerships with other local and national consumer organizations around genetic issues, as well as the capacity to address issues of access to genetic services and technology, consumer attitudes, and concerns regarding ethnocultural issues.

Federal Involvement: Substantial Federal involvement will be detailed in the application materials.

Eligibility: As cited in 42 CFR part 51a.3(a), any public or private entity, including an Indian tribe or tribal organization (as those terms are defined at 25 U.S.C. 450b), is eligible to apply for this Federal funding.

Funding Priorities and/or Preferences: Preference will be given to a national genetics organization with special knowledge of genetics and issues important to the provision of genetic services.

Review Criteria: Final review criteria will be included in the application kit.

Estimated Amount of this Competition: $200,000.

Estimated Number of Awards: 1.

Estimated Project Period: 5 years.

CFDA Number: 93.110A.

Application Availability Date: December 14, 2001.

Letter of Intent Deadline: January 15, 2002.

Application Deadline: February 28, 2002.

Projected Award Date: June 1, 2002.

Program Contact Person: Penny Kyler.

Phone Number: (301) 443-1080.

E-mail: pkyler@hrsa.gov.

National Newborn Screening and Genetics Resource Center 93.110A

Legislative Authority: Social Security Act, Title V, 42 U.S.C. 701.

Purpose: This competition will fund a cooperative agreement to support a national newborn screening and genetics resource center. The purpose of this cooperative agreement is to: (1) Provide a forum for policy initiatives and emerging issues in newborn screening and genetic services; (2) provide support, including grant related technical assistance, to Genetic Services Branch grantees and State public health agencies in their newborn screening and genetic activities; (3) establish and implement a dissemination and education strategy to provide educational opportunities and enhance timely interactive communication among key stakeholders such as community leaders, policy makers, consumers, health care providers, government officials, and researchers concerning issues related to newborn screening and genetics; and (4) enhance the capacity to collect, analyze, and use information that will strengthen newborn screening activities and genetics planning at the State and local level. Federal involvement will be specified in the application materials.

Federal Involvement: Substantial Federal involvement will be detailed in the application materials.

Eligibility: As cited in 42 CFR Part 51a.3 (a), any public or private entity, including an Indian tribe or tribal organization (as those terms are defined at 25 U.S.C. 450b), is eligible to apply for this Federal funding.

Funding Priorities and/or Preferences: Preference will be given to entities that have expertise and a working knowledge of State newborn screening and genetics programs and are able to clearly demonstrate their expertise and capacity to address newborn screening, genetics, and public health policy and issues.

Review Criteria: Final review criteria will be included in the application kit.

Estimated Amount of This Competition: $700,000.

Estimated Number of Awards: 1.

Estimated Project Period: 4 years.

CFDA Number: 93.110A.

Application Availability Date: December 17, 2001.

Letter of Intent Deadline: January 14, 2002.

Application Deadline: February 28, 2002.

Projected Award Date: June 1, 2002.

Program Contact Person: Marie Mann MD, MPH.

Phone Number: (301) 443-1080.

E-mail: mmann@hrsa.gov.

National Blood Lead Proficiency Testing Program 93.110AA

Legislative Authority: Social Security Act, Title V, 42 U.S.C. 701.

Purpose: The purpose of this program is to improve, nationwide, the performance of laboratories which provide erythrocyte protoporphyrin (EP) screening tests and blood lead determinations for childhood lead poisoning prevention programs, and on request provide technical assistance and consultation to health care programs and providers responsible for the treatment and management of children and maternal health adults with elevated blood lead levels (EBLL). Accurate, timely EP and blood lead testing are critical to the prevention, diagnosis, treatment, and management of children and adults with EBLL. The applicant organization must demonstrate: (1) The capacity to prepare, distribute, and process proficiency testing samples for more than 400 participating laboratories; (2) the ability to remain current and knowledgeable in response to advancements in blood lead collection and testing technology; and (3) competence in the provision, as requested, of consultation and technical assistance nationwide to laboratories, programs, and providers responsible for the delivery of health and health-related services to at-risk populations.

Eligibility: As cited in 42 CFR part 51a.3(a), any public or private entity, including an Indian tribe or tribal organization (as those terms are defined at 25 U.S.C. 450b), is eligible to apply for this Federal funding.

Review Criteria: Final review criteria are included in the application.

Estimated Amount of This Competition: $250,000.

Estimated Number of Awards: 1.

Estimated Project Period: 1 to 3 years.

CFDA Number: 93.110AA.

Application Availability: September 14, 2001.

Application Deadline: November 15, 2001.

Projected Award Date: January 01, 2002.

Program Contact Person: Richard J. Smith III, MS.

Phone Number: (301) 443-0324.

E-mail: rsmith@hrsa.gov.

Comprehensive Hemophilia Diagnostic and Treatment Centers 93.110B

Legislative Authority: Social Security Act, Title V, 42 U.S.C. 701.

Purpose: This program supports the provision of comprehensive care to people with hemophilia and their families through an integrated regional network of centers in the diagnosis and treatment of hemophilia and related bleeding disorders. Grants will be used to promote: (1) Maintenance and enhancement of comprehensive care teams to meet the medical, psycho-social, peer support, genetic counseling, and financial support needs of individuals and their families, throughout their lifetime, including the transition from pediatric to adult care; (2) continued outreach to unserved and underserved people with congenital bleeding disorders; and (3) continued collaboration with hemophilia treatment centers within the defined area and promotion of family-centered care within the client population.

Eligibility: As cited in 42 CFR part 51a.3(a), any public or private entity, including an Indian tribe or tribal organization (as those terms are defined at 25 U.S.C. 450b), is eligible to apply for this Federal funding.

Funding Priorities and/or Preferences: Preference for funding will be given to: (1) Previously funded regional grantees who have developed, maintained, and improved the network of integrated treatment centers within their respective areas; and (2) public and private organizations that can demonstrate the ability to organize and administer a regional network of affiliated treatment centers, meeting the standards and criteria for the care of persons with congenital bleeding disorders issued by the National Hemophilia Foundation (NHF) and the requirements of the MCHB Hemophilia Program Guidance for 2002.

Review Criteria: Final review criteria are included in the application kit.

Estimated Amount of This Competition: $5,000,000.

Estimated Number of Awards: 12.

Estimated or Average Size of Each Award: $416,500.

Estimated Project Period: 3 years.

CFDA Number: 93.110B.

Application Availability Date: December 28, 2001.

Application Deadline: March 1, 2002.

Project Award Date: June 1, 2002.

Program Contact Person: Judith Hagopian.

Phone Number: (301) 443-1080.

E-mail: jhagopian@hrsa.gov.

Bright Futures Health Promotion/Prevention Education Center 93.110BF

Legislative Authority: Social Security Act, Title V, 42 U.S.C. 701.

Purpose: The purpose of the educational center building upon the foundation of the Bright Futures Guidelines for Infants, Children and Adolescents is to promote and improve the health of infants, children, adolescents, families, and communities through educating and enhancing the way health professionals practice; increasing family's knowledge, skills, and participation in health promotion and prevention activities; educating policy makers to implement community-based health promotion and prevention well child care; and fostering partnerships among health professionals, families, communities, and others.

Eligibility: As cited in 42 CFR part 51a.3 (a), any public or private entity, including an Indian tribe or tribal organization (as those terms are defined at 25 U.S.C. 450b), is eligible to apply for this Federal funding.

Review Criteria: Final review criteria are included in the application.

Estimated Amount of This Competition: $700,000.

Estimated Number of Awards: 1.

Estimated Project Period: 5 years.

CFDA Number: 93.110BF.

Application Availability Date: June 1, 2001.

Letter of Intent Deadline: July 2, 2001.

Application Deadline: October 15, 2001.

Projected Award Date: November 30, 2001.

Program Contact Person: Ann Drum, DDS.

Phone Number: (301) 443-2340.

E-mail: adrum@hrsa.gov.

Bright Futures Pediatric Implementation Cooperative Agreement Grant 93.110BI

Legislative Authority: Social Security Act, Title V, 42 U.S.C. 701.

Purpose: The purpose of this program is to support activities to improve health promotion and prevention practices through the effective implementation of the Bright Futures Guidelines for Infants, Children and Adolescents among pediatric health providers. Specifically the program is designed to promote problem solving approaches to enhance pediatric provider participation in health promotion and prevention, including the development of practical strategies, tools, and partnerships. Any national membership organization able to demonstrate that it represents a significant group(s) of providers of pediatric services will be considered for funding. Program Requirements include: analysis of obstacles (issues and contributing factors) to pediatric provider participation in providing health promotion/prevention services to children within a medical home, as well as involvement in problem-solving at the system and community levels; development of strategies to improve the implementation of the Bright Futures Guidelines among pediatric providers, encouraging provider participation and encouraging private sector and other support at the community level to improve access to health promotion and prevention services; and dissemination and effective communication of concerns and information pertaining to the issues and strategies employed in promoting Bright Futures health promotion/prevention efforts to their members and other key national organizations and partners.

Federal Involvement: Substantial Federal involvement will be detailed in the application materials.

Eligibility: As cited in 42 CFR part 51a.3 (a), any public or private entity, including an Indian tribe or tribal organization (as those terms are defined at 25 U.S.C. 450b), is eligible to apply for this Federal funding.

Review Criteria: Final review criteria are included in application kit.

Estimated Amount of this Competition: Up to $300,000.

Estimated Number of Awards: 1.

Estimated Project Period: 5 years.

CFDA Number: 93.110BI.

Application Availability Date: June 1, 2001.

Letter of Intent Deadline: July 2, 2001.

Application Deadline: October 15, 2001.

Projected Award Date: November 30, 2001.

Program Contact Person: Ann Drum, DDS.

Phone Number: (301) 443-2340.

E-mail: adrum@hrsa.gov.

Oral Health Integrated Systems Development Grants 93.110AD

Legislative Authority: Social Security Act, Title V, 42 U.S.C. 701.

Purpose: The purpose of these targeted issues grants is to build a service and support system infrastructure at the State and community level to increase access to dental services for State Children's Health Insurance Program (SCHIP) and Medicaid eligible children and to develop and implement comprehensive integrated public and private sector services and support systems to address the unmet oral health needs of this population. The grants will build upon the HRSA/HCFA sponsored conference, Building Partnerships to Improve Children's Access to Medicaid Oral Health Services, and to address follow up issues and recommendations of HRSA/HFCA supported State Oral Health Summits and the National Governors Association Policy Academies on Improving Oral Health of Children.

Eligibility: As cited in 42 CFR Part 51a.3 (a), any public or private entity, including an Indian tribe or tribal organization (as those terms are defined at 25 U.S.C. 450b), is eligible to apply for this Federal funding.

Funding Priorities and/or Preferences: Preference will be given to States, or State-approved government or non-government agencies who have never received Oral Health Integrated Systems Development Grant funds.

Review Criteria: Final review criteria are included in the application.

Estimated Amount of This Competition: $400,000.

Estimated Number of Awards: 8.

Estimated Project Period: 3 years.

Estimated or Average Size of Each Award: $50,000.

CFDA Number: 93.110AD.

Application Availability: January 07, 2002.

Letter of Intent Deadline: February 01, 2002.

Application Deadline: March 08, 2002.

Projected Award Date: June 01, 2002.

Program Contact Person: John P. Rossetti, DDS.

Phone Number: (301) 443-3177.

E-mail: jrossetti@hrsa.gov.

Integrated Health and Behavioral Health Care for Children, Adolescents, and their Families—Implementation Grants 93.110AF

Legislative Authority: Social Security Act, Title V, 42 U.S.C. 701.

Purpose: These 3-year implementation grants are designed to operationalize the models of service integration established during a 2-year planning process by current grantees of this program. This implementation grant activity will allow initializing of established formalized working relationships among community resources, specifically the physical and psychosocial primary health care, comprehensive mental health services, and substance abuse prevention and treatment services as required under the previous planning grant announcement. The implementation activities are to include the necessary efforts to initiate and establish the model of integration developed over the 2-year planning time, including but not limited to: integration of clinical/social services, organizational structure, staffing, facilities, information systems including protection of confidentiality, and fiscal arrangements.

Eligibility: Eligibility is limited to grantees completing their second planning year as awarded under CFDA 93.110AF—Integrated Health and Behavioral Health Care for Children, Adolescents, and Their Families—Planning Program.

Review Criteria: Final review criteria are included in the application.

Estimated Amount of This Competition: $400,000.

Estimated Number of Awards: 2.

Estimated or Average Size of Each Award: $200,000.

Estimated Project Period: 3 years.

CFDA Number: 93.110AF.

Application Availability: December 14, 2001.

Letter of Intent Deadline: January 31, 2002.

Application Deadline: February 15, 2002.

Projected Award Date: April 1, 2002.

Program Contact Person: Sue Martone.

Phone Number: (301) 443-4996.

E-mail: smartone@hrsa.gov.

Maternal and Child Health (MCH) Library Services 93.110AL

Legislative Authority: Social Security Act, Title V, 42 U.S.C. 701.

Purpose: This purpose of the MCH Library Services cooperative agreement is to support a national information and education resource library which provides the information needed by the MCH community to plan and carry out program and policy development and to improve service delivery. The overall goal is to use information sciences and information technology to identify, collect, and organize information from the MCH field that is not readily available from other information sources, such as Healthy Start, infant mortality, oral health, nutrition, mental health, health promotion, women's health, MCH organizations, Medicaid, research, etc. The MCH Library is expected to conduct activities in the following areas: Collection and management of MCH information, and outreach for awareness and utilization of MCH information, including maintenance of databases, bibliographies, and other information resources on a website which provides national access to key MCH-related data and information.

Federal Involvement: Substantial Federal involvement will be detailed in the application materials.

Eligibility: As cited in 42 CFR part 51a.3 (a), any public or private entity, including an Indian tribe or tribal organization (as those terms are defined at 25 U.S.C. 450b), is eligible to apply for this Federal funding.

Review Criteria: Final review criteria are included in the application.

Estimated Amount of This Competition: $550,000.

Estimated Number of Awards: 1.

Estimated Project Period: 3 years.

CFDA Number: 93.110AL.

Application Availability Date: August 1, 2001.

Letter of Intent Deadline: September 4, 2001.

Application Deadline: October 1, 2001.

Projected Award Date: December 3, 2001.

Program Contact Person: Carol Galaty or Sharon Adamo.

Phone Number: (301) 443-2778.

E-mail: cgalaty@hrsa.gov or sadamo@hrsa.gov.

Health Insurance for Children With Special Health Care Needs (CSHCN) 93.110C

Legislative Authority: Social Security Act, Title V, 42 U.S.C. 701.

Purpose: This activity will provide assistance to statewide or regional collaborative efforts to assure that all families of children with special health care needs have adequate private and/or public insurance to pay for the services they need. Grants will support partnerships between State agencies, insurance companies, managed care organizations, employers, providers, families and other entities to: (1) Expand public or private insurance to decrease the number of uninsured children with special health care needs; (2) provide comprehensive coverage for children with special health care needs who currently have insurance that does not meet their needs; and (3) strengthen the financing system through demonstration of innovative financing strategies.

Matching or Cost Sharing Requirement: Twenty percent of annual grant awards in direct or in-kind contributions (e.g., personnel time, rental space) up to $50,000 per budget period is required.

Eligibility: As cited in 42 CFR Part 51a.3 (a), any public or private entity, including an Indian tribe or tribal organization (as those terms are defined at 25 U.S.C. 450b), is eligible to apply for this Federal funding.

Review Criteria: Final review criteria are included in the application kit.

Estimated Amount of This Competition: $2,000,000.

Estimated Number of Awards: 8.

Estimated or Average Size of Each Award: $250,000.

Estimated Project Period: 4 years.

CFDA Number: 93.110C.

Application Availability Date: November 9, 2001.

Letter of Intent Deadline: December 21, 2001.

Application Deadline: February 15, 2002.

Projected Award Date: July 1, 2002.

Program Contact Person: Lynda Honberg.

Phone Number: (301) 443-2370.

E-mail: lhonberg@hrsa.gov.

Healthy and Ready to Work (HRTW) National Center 93.110D

Legislative Authority: Social Security Act, Title V, 42 U.S.C. 701.

Purpose: The purpose of the HRTW National Center is to: promote communication among the Healthy and Ready to Work grant projects in the areas of youth transition; collaborate on approaches to address the transition of youth with special health needs from pediatric to adult health care; and provide technical assistance to the State Title V Children with Special Health Needs Programs in improving the health and quality of life of youth and young adults and reducing the disparities that exist for this population compared to youth and young adults in general. The HRTW National Center will serve States; communities and community-based organizations; professional, academic and provider organizations; and the general public. The National Center will focus on resource development, communication, dissemination, and the continuing education of the served populations listed above.

Eligibility: As cited in 42 CFR part 51a.3(a), any public or private entity, including an Indian tribe or tribal organization (as those terms are defined at 25 U.S.C. 450b), is eligible to apply for this Federal funding.

Review Criteria: Final review criteria are included in the application kit.

Estimated Amount of This Competition: $274,500.

Estimated Number of Awards: 1.

Estimated Project Period: 4 years.

CFDA Number: 93.110D.

Application Availability Date: December 3, 2001.

Letter of Intent Deadline: January 25, 2002.

Application Deadline: February 22, 2002.

Projected Award Date: June 30, 2002.

Program Contact Person: Thomas L. Gloss.

Phone Number: (301) 443-2370.

E-mail: tgloss@hrsa.gov.

Integrated Community Systems 93.110E

Legislative Authority: Social Security Act, Title V, 42 U.S.C. 701.

Purpose: This activity will support grants to States and/or major community-based development initiatives within the State to promote integrated community-based systems that are inclusive of children with special health care needs and their families. The activity is intended to leverage existing community-based development initiatives within the State targeted toward improving health and developmental outcomes for children. These funds will expand or enhance the capacity of the initiative to address issues related to children with special health care needs in an inclusive manner through: (1) Community planning/governance activities; (2) community leadership; and (3) development of service capacity. Expected outcomes include improved access to comprehensive coordinated community-based services; ongoing health care through a medical home; family/professional partnerships; and family-centered, culturally competent services.

Eligibility: As cited in 42 CFR part 51a.3(a), any public or private entity, including an Indian tribe or tribal organization (as those terms are defined at 25 U.S.C. 450b), is eligible to apply for this Federal funding.

Review Criteria: Final review criteria are included in the application.

Estimated Amount of This Competition: $400,000.

Estimated Number of Awards: 2.

Estimated or Average Size of Each Award: $200,000.

Estimated Project Period: 4 years.

CFDA Number: 93.110E.

Application Availability Date: October 1, 2001.

Letter of Intent Deadline: January 2, 2002.

Application Deadline: February 15, 2002.

Projected Award Date: June 1, 2002.

Program Contact Person: Diana Denboba.

Phone Number: (301) 443-2370.

E-mail: ddenboba@hrsa.gov.

Statewide Medical Home Development Grants 93.110F

Legislative Authority: Social Security Act, Title V, 42 U.S.C. 701.

Purpose: This activity will support grants to promote access to ongoing comprehensive care through a medical home for all children with special health care needs (CSHCN). The grants will assist in the development and implementation of a statewide strategy for medical home implementation for children with special health care needs. These strategies include: (1) Working with primary care providers to implement the medical home concept; (2) incorporating well-defined strategies for coordination of primary care with specialty/subspecialty care; and (3) demonstrating care coordination models that link the medical home to the community-based system of services. These activities will serve as examples within the State and nationally to stimulate the operation of the medical home concept. Activities will coordinate with the Title V needs assessment activities related to medical home, and project outcomes, reporting, and evaluation will be incorporated into ongoing activities of the State Title V Block Grant.

Eligibility: As cited in 42 CFR part 51a.3(a), any public or private entity, including an Indian tribe or tribal organization (as those terms are defined at 25 U.S.C. 450b), is eligible to apply for this Federal funding.

Funding Priorities and/or Preferences: Preference will be given to States and territories without an existing Medical Home Development Grant.

Review Criteria: Final review criteria are included in the application.

Estimated Amount of This Competition: $810,569.

Estimated Number of Awards: 5.

Estimated or Average Size of Each Award: $162,113.

Estimated Project Period: 3 years.

CFDA Number: 93.110F.

Application Availability Date: August 15, 2001.

Letter of Intent Deadline: October 15, 2001.

Application Deadline: November 15, 2001.

Projected Award Date: March 31, 2002.

Program Contact Person: Tom Castonguay.

Phone Number: (301) 443-2370.

E-mail: tcastonguay@hrsa.gov.

Partnership for Information and Communication MCH Cooperative Agreements 93.110G

Legislative Authority: Social Security Act, Title V, 42 U.S.C. 701.

Purpose: The purpose of this program is to fund cooperative agreements with governmental, professional, and private organizations represented by leaders concerned with issues related to maternal and child health. Specifically, this program is designed to facilitate the dissemination of new information in a format that will be most useful when developing MCH policies and programs in the private and public sectors at local, State, and national levels. In addition, it will provide those individuals and organizations with a means of communicating issues directly to the Maternal and Child Health program and to each other. Organizations currently receiving support as part of this cooperative agreement represent State governors and their staff; State legislatures and their staff; State, city and county local health officials; city and county health policymakers; municipal policymakers; private businesses; philanthropic organizations; families of children with special health needs; nonprofit and/or for-profit managed care organizations; coalitions of organizations promoting the health of mothers and infants; and national membership organizations representing survivors of traumatic brain injury (TBI), providing emergency medical care for children, and representing State Emergency Medical Services programs.

Federal Involvement: Substantial Federal involvement will be detailed in the application materials.

Eligibility: As cited in 42 CFR part 51a.3 (a), any public or private entity, including an Indian tribe or tribal organization (as those terms are defined at 25 U.S.C. 450b), is eligible to apply for this Federal funding.

Funding Priorities and/or Preferences: To ensure continuity, membership for the organizations participating in PIC is rotated so that not all project periods coincide. For this year, national membership organizations representing the following groups will be considered for funding: city and county health policymakers; municipal health policymakers; governors and their staff; State and territorial health officials; nonprofit and/or for-profit managed care organizations, and coalitions of organizations promoting the health of mothers and infants.

Review Criteria: Final review criteria are included in the application.

Estimated Amount of This Competition: $1,400,000.

Estimated Number of Awards: 7.

Estimated or Average Size of Each Award: $200,000.

Estimated Project Period: 3 years.

CFDA Number: 93.110G.

Application Availability Date: December 21, 2001.

Letter of Intent Deadline: January 10, 2002.

Application Deadline: February 22, 2002.

Projected Award Date: April 1, 2002.

Program Contact Person: Sue Martone.

Phone Number: (301) 443-4996.

Email: smartone@hrsa.gov.

Partners in Program Planning for Adolescent Health 93.110N

Legislative Authority: Social Security Act, Title V, 42 U.S.C. 701.

Purpose: The goal of this partnership with a group of national membership organizations is to promote an adolescent health agenda among key professional disciplines likely to have encounters with adolescents and their families. It promotes the development of an organizational infrastructure at national and State levels that can effectively address adolescent health issues; enhances intra- and inter-disciplinary communication, education and training needs relevant to adolescent health; and encourages the growth of collaborative effort across disciplines and professional organizations on behalf of adolescent health and well-being. In particular, member organizations will be expected to use the 21 critical adolescent health objectives contained in Healthy People 2010 as a framework for addressing selected adolescent health issues, based on the disciplinary expertise of the organization, and to contribute to State's efforts to improve the health status of adolescents. The organizational collaborative will approach its efforts from the perspective of positive youth development.

Eligibility: As cited in 42 CFR part 51a.3 (a), any public or private entity, including an Indian tribe or tribal organization (as those terms are defined at 25 U.S.C. 450b), is eligible to apply for this Federal funding.

Funding Priorities and/or Preferences: Funding preference will be given to national membership organizations representing the following disciplines: nursing, health education, law, medicine, nutrition/dietetics, oral health, psychology, psychiatry, social work, and youth services, as well as to organizations representing a coalition of professional membership organizations affiliated with the specific discipline, if more than one national organization exists.

Special Consideration: Special consideration will also be given to ensure a maximum diversity of professional disciplines represented among grantees. This factor will be considered in making overall funding decisions and may move an applicant out of rank order.

Review Criteria: Final review criteria are included in the application.

Estimated Amount of This Competition: $100,000.

Estimated Number of Awards: 1.

Estimated Project Period: 4 years.

CFDA Number: 93.110N.

Application Availability: January 22, 2002.

Letter of Intent Deadline: February 22, 2002.

Application Deadline: April 22, 2002.

Projected Award Date: August 1, 2002.

Program Contact Person: Audrey Yowell, PhD.

Phone Number: (301) 443-4292.

E-mail: ayowell@hrsa.gov.

SPRANS Community-Based-Abstinence Education Project Grants 93.110NO

Legislative Authority: Section 501(a)(2) of the Social Security Act, 42 U.S.C. 701(a)(2).

Purpose: The purpose of the SPRANS Community-Based Abstinence Education Project Grants is to provide support to public and private entities for the development and implementation of abstinence education programs for adolescents, ages 12 through 18, in communities across the country. Projects funded through the SPRANS Community-Based Abstinence Education grant program must promote abstinence-only education as defined by Section 510 of Title V of the Social Security Act and agree not to provide a participating adolescent any other education regarding sexual conduct in the same setting.

Eligibility: As cited in 42 CFR part 51a.3(a), any public or private entity, including an Indian tribe or tribal organization (as those terms are defined at 25 U.S.C. 450b), is eligible to apply for this Federal funding.

Funding Priorities and/or Preferences: Priority for funding will be given to entities in local communities which demonstrate a strong record of support for abstinence education among adolescents. An approved proposal that reflects this priority will receive a 5-point favorable adjustment in the priority score, before funding decisions are made. Preference will also be given to FY 2001 planning grantees who are applying for an FY 2002 implementation grant.

Review Criteria: Final review criteria are included in the application.

Estimated Amount of This Competition: $11,500,000

Estimated Number of Awards: Up to 20 planning and 25 implementation project grants.

Estimated or Average Size of Each Award: Estimated range for a planning grant is $50,000 to $100,000. Estimated range for an implementation grant is $250,000 to $1,000,000 annually.

Estimated Project Period: 1 year for a planning grant and 3 years for an implementation grant.

CFDA Number: 93.110NO.

Application Availability Date: October 15, 2001.

Letter of Intent Deadline: December 3, 2001.

Application Deadline: January 22, 2002.

Projected Award Date: July 1, 2002.

Program Contact Person: Michele Lawler.

Phone Number: (301) 443-2204.

E-mail: mlawler@hrsa.gov.

National Sudden Infant Death Syndrome/Infant Death Program Support Center 93.110O.

Legislative Authority: Social Security Act, Title V, 42 U.S.C. 701.

Purpose: This cooperative agreement supports the development of community-based services to reduce the risk of Sudden Infant Death Syndrome/Infant Death (SIDS/ID); to appropriately support families when an infant death occurs; to reach out to underserved populations and analyze standardized information about infant deaths in the hope of discovering factors which can reduce the risk of future infant death.

Federal Involvement: Substantial Federal involvement will be detailed in the application materials.

Eligibility: As cited in 42 CFR part 51a.3(a), any public or private entity, including an Indian tribe or tribal organization (as those terms are defined at 25 U.S.C. 450b), is eligible to apply for this Federal funding.

Review Criteria: Final review criteria are included in the application.

Estimated Amount of This Competition: $250,000.

Estimated Number of Awards: 1.

Estimated Project Period: 3 years.

CFDA Number: 93.110O.

Application Availability Date: February 15, 2002.

Letter of Intent Deadline: March 15, 2002.

Application Deadline: May 17, 2002.

Projected Award Date: August 01, 2002.

Program Contact Person: Paul S. Rusinko.

Phone Number: (301) 443-2115.

E-mail: prusinko@hrsa.gov.

Program to Enhance Performance of Sudden Infant Death Syndrome (SIDS) and Other Infant Death Initiatives 93.110O

Legislative Authority: Social Security Act, Title V, 42 U.S.C. 701.

Purpose: The purpose of this project is to support and enhance the efforts of MCH program professionals in State/local SIDS and Other Infant Death (ID) programs. This effort is designed to promote professionals as they implement their programs for counseling, education, advocacy, and research to ensure a supportive community response to those impacted by an infant death and to reduce the risk of death for future children. This proposal differs from the continuation of the National SIDS/ID Program Support Center as it focuses more narrowly on SIDS/ID professionals and MCH State/local SIDS/ID programs.

Eligibility: As cited in 42 CFR part 51a.3 (a), any public or private entity, including an Indian tribe or tribal organization (as those terms are defined at 25 U.S.C. 450b), is eligible to apply for this Federal funding.

Review Criteria: Final review criteria are included in the application.

Estimated Amount of This Competition: $200,000.

Estimated Number of Awards: 1.

Estimated Project Period: 3 years.

CFDA Number: 93.110O.

Application Availability Date: February 15, 2002.

Letter of Intent Deadline: March 15, 2002.

Application Deadline: May 17, 2002.

Projected Award Date: August 01, 2002.

Program Contact Person: Paul S. Rusinko.

Phone Number: (301) 443-2115.

E-mail: prusinko@hrsa.gov.

Maternal and Child Health Research Program 93.110RS

Legislative Authority: Social Security Act, Title V, 42 U.S.C. 701.

Purpose: The purpose of this program is to support applied research relating to maternal and child health services, which shows promise of substantial contribution to the current knowledge pool, and when used in States and communities should result in health and health services improvements.

Eligibility: As cited in 42 CFR 51a.3 (b), only public or nonprofit institutions of higher learning and public or private nonprofit agencies engaged in research or in programs relating to maternal and child health and/or services for children with special health care needs may apply for grants, contracts or cooperative agreements for research in maternal and child health services or in services for children with special health care needs.

Funding Priorities and/or Preferences: Fifteen priority issues/questions selected from 11 broadly demarcated areas of program concern, and keyed to goals and objectives of the Bureau and HRSA strategic plans, will be given priority for funding. The special consideration consists of a 50-point adjustment to the priority score assigned to an application when recommended for support by the MCH Research Review Committee. Priority scores range from 100 to 500, with 100 representing the best score, and 500 the poorest. The 15 issues/questions selected from the 11 broadly demarcated areas of program concern are detailed in the guidance material contained in the application kit.

Review Criteria: Final review criteria are included in the application.

Estimated Amount of This Competition: $2,200,000.

Estimated Number of Awards: 10.

Estimated or Average Size of Each Award: $220,000.

Estimated Project Period: 1 to 4 years.

CFDA Number: 93.110RS.

Application Availability Date: Continuous.

Application Deadline: August 1, 2001, and March 1, 2002.

Projected Award Date: January 1, 2002 and August 1, 2002.

Program Contact Person: Kishena Wadhwani, Ph.D.

Phone Number: (301) 443-2927.

E-mail: kwadhwani@hrsa.gov.

Health Care Information and Education for Families of Children With Special Health Care Needs (CSHCN) 93.110S

Legislative Authority: Social Security Act, Title V, 42 U.S.C. 701.

Purpose: The purpose of this competition is to provide grants to establish statewide family run centers in collaboration with State/Territorial Title V CSHCN programs. Successful applicants will be expected to: (1) Develop and disseminate needed health care information to families and providers; (2) provide education and training opportunities for families; (3) collect and analyze data related to project activities, family and system impact, and the Healthy People 2010 agenda; (4) work with the National Cooperative Agreement, Health Care Information and Education for Families of CSHCN—Family Voices; (5) contribute funding may including in-kind; and (6) integrate the philosophy and practices of family-centered care, family/professional partnerships, and cultural competence.

Eligibility: As cited in 42 CFR part 51a.3(a), any public or private entity, including an Indian tribe or tribal organization (as those terms are defined at 25 U.S.C. 450b), is eligible to apply for this Federal funding.

Funding Priorities and/or Preferences: Funding preference will be given to collaborative efforts submitted by State/Territorial Title V CSHCN programs and family run organizations.

Review Criteria: Final review criteria are included in the application.

Estimated Amount of This Competition: $357,125.

Estimated Number of Awards: Up to 4.

Estimated or Average Size of Each Award: $89,280.

Estimated Project Period: 4 years.

CFDA Number: 93.110S.

Application Availability Date: September 28, 2001.

Letter of Intent Deadline: October 30, 2001.

Application Deadline: January 2, 2002.

Projected Award Date: June 1, 2002.

Program Contact Person: Diana Denboba.

Phone Number: (301) 443-2370.

E-mail: ddenboba@hrsa.gov.

Public Policy Analysis and Education Center for Infant and Early Childhood Health 93.110PC

Legislative Authority: Social Security Act, Title V, 42 U.S.C. 701.

Purpose: The purpose of this Center is to analyze the effects of public policies, regulations, and practices at the community, State, and Federal levels on the health and well-being of infants and young children and their families. The Center's work will include the development of conceptual models for health and related services as well as analysis of the utility of various indicators of health status and well-being for these age groups.

Eligibility: As cited in 42 CFR part 51a.3(a), any public or private entity, including an Indian tribe or tribal organization (as those terms are defined at 25 U.S.C. 450b), is eligible to apply for this Federal funding.

Funding Priorities and/or Preferences: Preference will be given to public or nonprofit private institutions of higher learning.

Review Criteria: Final review criteria are included in the application.

Estimated Amount of this Competition: $250,000.

Estimated Number of Awards: 1.

Estimated Project Period: 3 years.

CFDA Number: 93.110PC.

Application Availability Date: November 19, 2001.

Letter of Intent Deadline: January 22, 2002.

Application Deadline: February 22, 2002.

Projected Award Date: April 1, 2002.

Program Contact Person: Phyllis E. Stubbs-Wynn, MD.

Phone Number: (301) 443-4489.

E-mail: pstubbs@hrsa.gov.

Graduate Medical Education: Reducing Health Status Disparities through Mentoring Training for Residents in OB/GYN, Pediatrics, and Family Practice 93.110TD

Legislative Authority: Social Security Act, Title V, 42 U.S.C. 701.

Purpose: This program will: (1) Enhance the education and training of residents in obstetrics, adolescent gynecology, family practice, and/or pediatrics in order to help them provide effective primary care for at-risk, underserved populations in community-based settings, and reduce disparities in the health status, and address the special health needs of these populations; and (2) stimulate the interest of high school and undergraduate students from traditionally underserved populations in careers in MCH-related health professions. The aim is to broaden participation in MCHB programs by institutions of higher learning that are uniquely equipped to reduce health status disparities and increase opportunities for all Americans to participate in and benefit from Federal public health programs.

Eligibility: As cited in 42 CFR Part 51a.3 (b), only public or nonprofit private institutions of higher learning may apply for training grants.

Review Criteria: Final review criteria are included in the application kit.

Estimated Amount of This Competition: $333,000

Estimated Number of Awards: 2.

Estimated or Average Size of Each Award: $166,500.

Estimated Project Period: 4 years.

CFDA Number: 93.110 TD.

Application Availability Date: August 15, 2001.

Letter of Intent Deadline: September 14 , 2001.

Application Deadline: October 15, 2001.

Projected Award Date: March 1, 2002.

Program Contact Person: Aaron Favors, Ph.D..

Phone Number: 301-443-0392.

E-mail: afavors@hrsa.gov.

Long Term Training in Adolescent Health 93.110TA

Legislative Authority: Social Security Act, Title V, 42 U.S.C. 701.

Purpose: The purpose of this program is to provide interdisciplinary leadership training for several professional disciplines at the graduate and postgraduate levels to prepare them for leadership roles in clinical services, research, training, and development of health services for adolescents. The training is designed to integrate biological, developmental, mental health, social, economic, educational, and environmental issues within a preventive public health framework.

Eligibility: As cited in 42 CFR part 51a.3(b), only public or nonprofit private institutions of higher learning may apply for training grants.

Funding Priorities and/or Preferences: Preference will be given to departments of pediatrics and internal medicine of accredited U.S. medical schools or from pediatric teaching hospitals having formal affiliations with schools of medicine.

Review Criteria: Final review criteria are included in the application kit.

Estimated Amount of This Competition: $2,405,650.

Estimated Number of Awards: Up to 7.

Estimated or Average Size of Each Award: $340,000.

Estimated Project Period: 5 Years.

CFDA Number: 93.110TA.

Application Availability Date: October 15, 2001.

Letter of Intent Deadline: November 15, 2001.

Application Deadline: January 25, 2002.

Projected Award Date: July 1, 2002.

Program Contact Person: Denise Sofka, MPH.

Phone Number: (301) 443-0344.

E-mail: dsofka@hrsa.gov.

Long Term Training in Pediatric Dentistry 93.110TG

Legislative Authority: Social Security Act, Title V, 42 U.S.C. 701.

Purpose: This program provides leadership training in pediatric dentistry through support of: (1) Postdoctoral training of dentists in the primary care specialty of pediatric dentistry to assume public health leadership roles related to oral health programs for populations of children, particularly those with special health care needs; (2) development and dissemination of curriculum resources to enhance pediatric content in dentistry training programs; and (3) consultation, technical assistance, and continuing education in pediatric dentistry geared to the needs of the MCH community.

Eligibility: As cited in 42 CFR part 51a.3 (b), only public or nonprofit private institutions of higher learning may apply for training grants.

Funding Priorities and/or Preferences: Preference will be given to advanced education programs in pediatric dentistry accredited by the Commission on Dental Accreditation.

Review Criteria: Final review criteria are included in the application kit.

Estimated Amount of This Competition: $600,000.

Estimated Number of Awards: 4.

Estimated or Average Size of Each Award: $150,000 to $200,000.

Estimated Project Period: 5 Years.

CFDA Number: 93.110TG.

Application Availability Date: August 30, 2001.

Letter of Intent Deadline: October 1, 2001.

Application Deadline: November 2, 2001.

Projected Award Date: July 1, 2002.

Program Contact Person: Nanette H. Pepper, BSRN, MEd.

Phone Number: (301) 443-6445.

E-mail: npepper@hrsa.gov.

Continuing Education and Development 93.110TO

Legislative Authority: Social Security Act, Title V, Section 502, 42 U.S.C. 702.

Purpose: Continuing Education and Development (CED) focuses on increasing the leadership skills of MCH professionals by facilitating the timely transfer of new information (research findings and technology) related to MCH; and updating and improving the knowledge and skills of health and related professionals in programs serving mothers and children. CED programs support the conduct of short-term, non-degree related courses, workshops, conferences, symposia, institutes, and distance learning strategies and/or development of curricula, guidelines, standards of practice, and educational tools/strategies intended to assure quality health care for the MCH population.

Eligibility: As cited in 42 CFR Part 51a.3(b), only public or nonprofit private institutions of higher learning may apply for training grants.

Review Criteria: Final review criteria are included in the application kit.

Estimated Amount of This Competition: $240,000.

Estimated Number of Awards: Up to 8.

Estimated or Average Size of Each Award: $30,000.

Estimated Project Period: 1 to 3 years.

CFDA Number: 93.110TO.

Application Availability Date: November 9, 2001.

Letter of Intent Deadline: December 7, 2001.

Application Deadline: January 18, 2002.

Projected Award Date: June 1, 2002.

Program Contact Person: Diana L. Rule, MPH.

Phone Number: (301) 443-2190.

E-mail: drule@hrsa.gov

Continuing Education/Distance Learning 93.110TQ

Legislative Authority: Social Security Act, Title V, 42 U.S.C. 701.

Purpose: This grant program supports the development, implementation, utilization, application, and evaluation of distance education opportunities for MCH health professionals. Projects will not only develop distance learning based curricula, but will also work collaboratively with one another to provide technical assistance in distance education and technology to the MCH community.

Eligibility: As cited in 42 CFR Part 51a.3 (b), only public or nonprofit private institutions of higher learning may apply for training grants.

Review Criteria: Final review criteria are included in the application kit.

Estimated Amount of This Competition: $517,400.

Estimated Number of Awards: 3 to 4.

Estimated or Average Size of Each Award: $172,000.

Estimated Project Period: 3 years.

CFDA Number: 93.110TQ.

Application Availability Date: November 9, 2001.

Letter of Intent Deadline: December 7, 2001.

Application Deadline: January 18, 2002.

Projected Award Date: June 1, 2002.

Program Contact Person: Aaron Favors, PhD.

Phone Number: (301) 443-0392.

E-mail: afavors@hrsa.gov.

Healthy Tomorrows Partnership for Children Program 93.110V

Legislative Authority: Social Security Act, Title V, 42 U.S.C. 701.

Purpose: The purpose of this program is to support projects for mothers and children that improve access to health services and utilize preventive strategies. The initiative encourages grantees to develop the ability to seek additional support from the private sector and from foundations to form community-based partnerships to coordinate health resources for pregnant women, infants, and children.

Matching or Cost Sharing Requirement: The applicant must demonstrate the capability to meet cost participation goals by securing matching funds for the second through fifth years of the project. The specific requirements are detailed in the application materials.

Eligibility: As cited in 42 CFR Part 51a.3(a), any public or private entity, including an Indian tribe or tribal organization (as those terms are defined at 25 U.S.C. 450b), is eligible to apply for this Federal funding.

Funding Priorities and/or Preferences: Preference will be given to projects from States without a currently funded project in this category. These States are as follows: Alabama, Delaware, Florida, Georgia, Hawaii, Idaho, Indiana, Iowa, Kansas, Louisiana, Maine, Maryland, Massachusetts, Mississippi, Missouri, Montana, Nevada, New Hampshire, New Jersey, North Carolina, North Dakota, South Carolina, Texas, West Virginia, Wisconsin, Wyoming, American Samoa, Commonwealth of the Northern Mariana Islands, Federated States of Micronesia, Guam, Puerto Rico, Republic of Palau, Republic of the Marshall Islands, and the Virgin Islands.

Review Criteria: Final review criteria are included in the application kit.

Estimated Amount of This Competition: $600,000.

Estimated Number of Awards: 12.

Estimated or Average Size of Each Award: $50,000.

Estimated Project Period: 5 years.

CFDA Number: 93.110V.

Application Availability Date: August 1, 2001.

Letter of Intent Deadline: September 4, 2001.

Application Deadline: October 1, 2001.

Projected Award Date: March 1, 2002.

Program Contact Person: Jose Belardo, MSW, MS.

Phone Number: (301) 443-0757.

E-mail: jbelardo@hrsa.gov.

Emergency Medical Services for Children Development Demonstration Grants 93.127A

Legislative Authority: Public Health Service Act, Section 1910, 42 U.S.C. 300w-9.

Purpose: This grant will improve the capacity of a State's EMS program to address the particular needs of children. The grant will be used to assist States in integrating research-based knowledge and state-of-the-art systems development approaches into the existing State EMS, MCH, and CSHCN systems, using the experience and products of previous EMSC demonstration grantees. Applicants are encouraged to consider activities that: (1) Address identified needs within their State EMS system and that lay the groundwork for permanent changes in that system; (2) develop or monitor pediatric EMS capacity; and (3) if determined to be effective, will be institutionalized within the State EMS system.

Eligibility: States and accredited schools of medicine are eligible applicants.

Review Criteria: Final review criteria are included in the application.

Estimated Amount of This Competition: $250,000.

Estimated Number of Awards: 1.

Estimated Project Period: 3 years.

CFDA Number: 93.127A.

Application Availability Date: September 4, 2001.

Letter of Intent Deadline: October 1, 2001.

Application Deadline: November 5, 2001.

Projected Award Date: March 1, 2002.

Program Contact Person: Cindy R. Doyle, RN.

Phone Number: (301) 443-3888.

E-mail: cdoyle@hrsa.gov.

Emergency Medical Services for Children Partnerships Demonstration Grants 93.127C

Legislative Authority: Public Health Service Act, Section 1910, 42 U.S.C. 300w-9.

Purpose: State partnership demonstration grants will fund activities that represent the next logical step or steps to take in order to institutionalize EMSC within Emergency Medical Services (EMS) and to continue to improve and refine EMSC. Proposed activities should be consistent with documented needs in the State and should reflect a logical progression in enhancing pediatric capabilities. For example, funding might be used to address problems identified in the course of a previous EMSC grant; to increase the involvement of families in EMSC; to improve linkages between local, regional, or State agencies; to promulgate standards developed for one region of the State under previous funding to include the entire State; to devise a plan for coordinating and funding poison control centers; or to assure effective field triage of the child in physical or emotional crisis to appropriate facilities and/or other resources.

Eligibility: States and accredited schools of medicine are eligible applicants.

Review Criteria: Final review criteria are included in the application.

Estimated Amount of This Competition: $700,000.

Estimated Number of Awards: 7.

Estimated or Average Size of Each Award: $100,000.

Estimated Project Period: 3 years.

CFDA Number: 93.127C.

Application Availability Date: September 4, 2001.

Letter of Intent Deadline: October 1, 2001.

Application Deadline: November 5, 2001.

Projected Award Date: March 1, 2002.

Program Contact Person: Cindy R. Doyle, RN.

Phone Number: (301) 443-3888.

E-mail: cdoyle@hrsa.gov.

Emergency Medical Services for Children Regional Symposium Supplemental Grants 93.127CS

Legislative Authority: Public Health Service Act, Section 1910, 42 U.S.C. 300w-9.

Purpose: To provide supplemental funds to existing State Partnership Demonstration grantees for regional roundtable meetings that are convened for the purpose of knowledge sharing. The primary goal of the Emergency Medical Services for Children (EMSC) program is to improve the quality of care to children. In collaboration with schools of medicine, regional consortia of State EMS programs will meet annually to develop and evaluate improved procedures and protocols for treating children. Meetings will involve coordinating, exchanging, and demonstrating innovative activities of common interest to participating States, while facilitating a forum for knowledge transfer on EMSC related issues between individual care providers and care providing organizations. The collection, analysis, and dissemination of information and data will be useful to States which have not received EMSC grants.

Eligibility: Eligibility is limited to existing EMSC State Partnership Demonstration grantees.

Special Consideration: One supplement will be awarded per EMSC region. Up to 8 regional consortia are anticipated; some have been established, others are to be formed.

Review Criteria: Final review criteria are included in the application.

Estimated Amount of This Competition: $280,000.

Estimated Number of Awards: Up to 8.

Estimated or Average Size of Each Award: $30,000 to $50,000.

Estimated Project Period: 1 year.

CFDA Number: 93.127CS.

Application Availability Date: September 4, 2001.

Letter of Intent Deadline: October 1, 2001.

Application Deadline: November 5, 2001.

Projected Award Date: February 1, 2001.

Program Contact Person: Cindy R. Doyle, RN.

Phone Number: (301) 443-3888.

E-mail: cdoyle@hrsa.gov.

Emergency Medical Services for Children Targeted Demonstration Grants 93.127D

Legislative Authority: Public Health Service Act, Title XIX, Section 1910, 42 U.S.C. 300w-9.

Purpose: Targeted Issue Demonstration Grants are intended to address specific, focused issues related to the development of EMSC knowledge and capacity with the intent of advancing the state-of-the-art tools, and creating tools or knowledge that will be helpful to the field. Proposals must have well-conceived methodology for analysis and evaluation. Targeted issue priorities have been identified as: cost-benefit analysis related to EMSC; implications of managed care for EMSC; evaluations of EMSC components; models for improving the care of culturally distinct populations; evaluation of systems for provision of emergency health care within day care and/or school settings; and evaluation of family-centered care models. Proposals may be submitted on emerging issues that are not included in the identified priorities. However, any such proposal must demonstrate relevance to the field and must make a persuasive argument that the issue is particularly critical.

Eligibility: States and accredited schools of medicine are eligible applicants.

Review Criteria: Final review criteria are included in the application.

Estimated Amount of This Competition: $1,200,000.

Estimated Number of Awards: 6.

Estimated or Average Size of Each Award: $200,000.

Estimated Project Period: 2 to 3 years.

CFDA Number: 93.127D.

Application Availability Date: September 4, 2001.

Letter of Intent Deadline: October 1, 2001.

Application Deadline: November 5, 2001.

Projected Award Date: March 1, 2002.

Program Contact Person: Cindy R. Doyle, RN.

Phone Number: (301) 443-3888.

E-mail: cdoyle@hrsa.gov.

Clinical Practice Guidelines for Emergency Care of Children Demonstration Grants 93.127I

Legislative Authority: Public Health Service Act, Title XIX, Section 1910, 42 U.S.C. 300w-9.

Purpose: The purpose of this program is to develop and to demonstrate the usefulness of a set of clinical practice guidelines applicable to all medical personnel who are responsible for treating children's emergency conditions (e.g., pediatricians, family practitioners, nurse practitioners, emergency department physicians, physician associates). These guidelines are intended to improve care for common problems that children present within emergency departments and doctor's offices. They will be based on an assessment of published research and will be used for accumulating valid summary of use to the EMS field.

Eligibility: States and accredited schools of medicine are eligible applicants.

Review Criteria: Final review criteria are included in the application.

Estimated Amount of This Competition: $500,000.

Estimated Number of Awards: 1.

Estimated Project Period: 3 years.

CFDA Number: 93.127I.

Application Availability Date: September 4, 2001.

Letter of Intent Deadline: October 1, 2001.

Application Deadline: November 5, 2001.

Projected Award Date: February 1, 2002.

Program Contact Person: Cindy R. Doyle, RN.

Phone Number: (301) 443-3888.

E-mail: cdoyle@hrsa.gov.

National Emergency Medical Services for Children Data Analysis Resource Center Demonstration Grant 93.127F

Legislative Authority: Public Health Service Act, Section 1910, 42 U.S.C. 300w-9.

Purpose: This cooperative agreement will focus on demonstrating the uses of collaborative EMSC relationships among State EMS offices in an effort to enhance States' abilities to collect, manage, and analyze data involving the care of acutely ill and injured children. Applicants are encouraged to consider activities that: (1) Facilitate successful EMS quality improvement plans; and (2) encourage collaboration among MCHB, NHTSA, Federal agencies, and national groups to facilitate planning for successful national EMS data development planning.

Federal Involvement: Substantial Federal involvement will be detailed in the application materials.

Eligibility: States and accredited schools of medicine are eligible applicants.

Review Criteria: Final review criteria are included in the application.

Estimated Amount of This Competition: $1,000,000.

Estimated Number of Awards: 1.

Estimated Project Period: 3 years.

CFDA Number: 93.127F.

Application Availability Date: September 4, 2001.

Letter of Intent Deadline: October 1, 2001.

Application Deadline: November 5, 2001.

Projected Award Date: March 1, 2002.

Program Contact Person: Cindy R. Doyle, RN.

Phone Number: (301) 443-3888.

E-mail: cdoyle@hrsa.gov.

Trauma/EMS Program 93.952

Legislative Authority: Public Health Service Act, Section 1201, 42 U.S.C. 300d.

Purpose: Implementation grants will build and/or enhance the infrastructure of State's overall emergency medical services and trauma systems. Applicants are encouraged to consider activities that: (1) Emphasize integrating research-based knowledge and state-of-the-art trauma care development into the existing EMS system; (2) address identified and unique needs of rural EMS; (3) emphasize integration of data collection systems that link or incorporate non-trauma/EMS related information, i.e., crash databases, medical examiner's databases, non-trauma center hospital information, etc.; (4) emphasize innovative uses of new and current communications technology; (5) assess and develop training within their State EMS system and/or trauma system; (6) design innovative protocols and agreements increasing access to necessary pre-hospital care and equipment for transporting seriously ill patients to appropriate facilities; and (7) develop or monitor trauma care and EMS system delivery. These projects should lay the groundwork for permanent changes in that system.

Eligibility: State agencies responsible for oversight of emergency medical services or the designee of such agency, and those agencies that designate trauma care regions and trauma centers in the State are eligible to apply.

Review Criteria: Final review criteria are included in the application.

Estimated Amount of This Competition: $2,000,000.

Estimated Number of Awards: 20.

Estimated or Average Size of Each Award: $100,000.

Estimated Project Period: 3 years.

CFDA Number: 93.952.

Application Availability Date: February 1, 2002.

Letter of Intent Deadline: March 1, 2002.

Application Deadline: April 1, 2002.

Projected Award Date: August 1, 2002.

Program Contact Person: Richard J. Smith III, MS or Jennifer Riggle.

Phone Number: (301) 443-0324, Rick Smith; (301) 443-7530, Jennifer Riggle.

E-mail: rsmith@hrsa.gov or jriggle@hrsa.gov.

Traumatic Brain Injury (TBI) State Implementation Grants 93.234A

Legislative Authority: Public Health Service Act, Section 1252, 42 U.S.C. 300d-52.

Purpos: The purpose of this grant program is to improve health and other services for people who have sustained a traumatic brain injury (TBI). Implementation grants provide funding to assist States in moving toward statewide systems that assure access to comprehensive and coordinated TBI services.

Matching Requirements: The State agrees to make available non-Federal contributions in an amount that is not less than $1 for each $2 of Federal funds provided under the grant. Non-Federal contributions may be cash or in kind.

Eligibility: State governments are eligible to apply. The application for Implementation funds may only come from the State agency designated as the lead for TBI services.

Review Criteria: Final review criteria are included in the application kit.

Estimated Amount of This Competition: $1,000,000.

Estimated Number of Awards: 5.

Estimated or Average Size of Each Award: $200,000.

Estimated Project Period: 3 years.

CFDA Number: 93.234A.

Application Availability Date: September 4, 2001.

Letter of Intent Deadline: November 1, 2001.

Application Deadline: December 3, 2001.

Projected Award Date: April 1, 2002.

Program Contact Person: Betty Hastings, MSW.

Phone Number: (301) 443-5599.

E-mail: bhastings@hrsa.gov.

Traumatic Brain Injury (TBI) State Planning Grants 93.234B

Legislative Authority: Public Health Service Act, Section 1252, 42 U.S.C. 300d-52.

Purpose: The purpose of this grant program is to improve health and other services for people who have sustained a traumatic brain injury (TBI). Planning grants provide funding to assist States in developing infrastructure. The following are four core capacity components: (1) A lead designated State agency; (2) a statewide advisory board; (3) a statewide resource/needs assessment; and (4) a statewide action plan moving toward statewide systems that assure access to comprehensive and coordinated TBI services.

Matching Requirements: The State agrees to make available non-Federal contributions in an amount that is not less than $1 for each $2 of Federal funds provided under the grant. Non-Federal contributions may be cash or in kind.

Eligibility: State governments are eligible to apply.

Review Criteria: Final review criteria are included in the application.

Estimated Amount of This Competition: $375,000.

Estimated Number of Awards: 5.

Estimated or Average Size of Each Award: $75,000.

Estimated Project Period: 2 years.

CFDA Number: 93.234B.

Application Availability Date: September 4, 2001.

Letter of Intent Deadline: November 1, 2001.

Application Deadline: December 3, 2001.

Projected Award Date: April 1, 2002.

Program Contact Person: Betty Hastings, MSW.

Phone Number: (301) 443-5599.

E-mail: bhastings@hrsa.gov.

Traumatic Brain Injury (TBI) Post-Demonstration 93.234C

Legislative Authority: Public Health Service Act, Title XII, Section 1252, 42 U.S.C. 300d-52.

Purpose: The program is designed for the continuation of previously awarded demonstration projects. A State that received a grant under this section prior to the date of enactment of the Children's Health Act of 2000 (October 17, 2000) may compete for new project grants under this section.

Matching Requirements: The State agrees to make available non-Federal contributions in an amount that is not less than $1 for each $2 of Federal funds provided under the grant. Non-Federal funds may be cash or in kind.

Eligibility: State governments are the only eligible applicants for funding. The application for a TBI Post Demonstration Grant may only come from the State agency designated as the lead for TBI services.

Funding Priorities and/or Preferences: Preference for TBI Post Demonstration Grants will be given to States who have successfully completed a 3-year TBI State Implementation Grant.

Review Criteria: Final review criteria are included in the application kit.

Estimated Amount of This Competition: $900,000.

Estimated Number of Awards: 9.

Estimated or Average Size of Each Award: $100,000.

Estimated Project Period: 1 year.

CFDA Number: 93.234C.

Application Availability Date: September 4, 2001.

Letter of Intent Deadline: November 1, 2001.

Application Deadline: December 3, 2001.

Projected Award Date: April 1, 2002.

Program Contact Person: Betty Hastings, MSW.

Phone Number: (301) 443-5599.

E-mail: bhastings@hrsa.gov.

Developing a System of Care to Address Family Violence During or Around the Time of Pregnancy 93.926J

Legislative Authority: Public Health Service Act, Section 330H, 42 U.S.C. 254C-8.

Purpose: The goal of this program is to develop and/or enhance systems that identify pregnant, pre-conceptional, or postpartum women experiencing family violence and provide appropriate information and linkages to interventions within a clearly defined system of care. The nature of the linkages should be such that barriers to access are significantly reduced and women are actively supported in their desire to utilize services within a coordinated, confidential network of medical and psycho-social providers, women's shelters, legal and law enforcement, and other support services. Funded programs are restricted to those which target a geographic area with high annual rates of infant mortality.

All funded projects must have, or establish for their project areas, community-based consortia of individuals and organizations which provide significant sources of health care services. In addition, they must coordinate their funded activities with the State agency that administers MCH block grant programs under Title V of the Social Security Act in order to promote cooperation, integration, and dissemination of information with statewide systems and with other community services.

Eligibility: Any public or private entity, including an Indian tribe or tribal organization (as those terms are defined at 25 U.S.C. 450b), is eligible to apply.

Funding Priorities and/or Preferences: Priority for funding (5 points on a 100-point scale) will be given to applicants who are grantees of Healthy Start service implementation projects. Only one application will be accepted per State/Territory. Applications from States with a current MCHB Perinatal Domestic Violence Grant 93.926J (IL, MD, NY, WA) may apply under this competition for a new community within their State. However, the community must be outside the catchment area currently served by the existing MCHB Perinatal Domestic Violence grant.

Review Criteria: Final review criteria are included in the application kit.

Estimated Amount of This Competition: Up to $600,000.

Estimated Number of Awards: Up to 4.

Estimated or Average Size of Each Award: $150,000.

Estimated Project Period: 3 years.

CFDA Number: 93.926J.

Application Availability Date: November 2, 2001.

Letter of Intent Deadline: December 3, 2001.

Application Deadline: January 4, 2002.

Projected Award Date: June 1, 2002.

Program Contact Person: Karen Hench.

Phone Number: (301) 443-9708.

E-mail: khench@hrsa.gov.

Rural Health Policy Programs

Rural Health Network Development 93.912B

Legislative Authority: Section 330A of the Public Health Service Act, 42 U.S.C. 254c.

Purpose: The purpose of this program is to support the development of health care networks in rural areas. Project funds are given to develop the organizational capabilities of these networks. The networks, which are tools for overcoming the fragmentation and vulnerability of the health care delivery system in rural areas, must be composed of at least three separately owned health care organizations. As such, the network supports rural health care organizations in a variety of ways, thereby strengthening the local delivery system to meet the health care needs of rural communities.

Eligibility: Rural public or nonprofit private organizations that are part of a network of at least three entities that support the delivery of health care services and will work together to complete the proposed project are eligible. Geographic eligibility requirements are (1) The lead applicant organization must be located in a rural area or in a rural zip code of an urban county (list included in the application materials). If the applicant is owned by or affiliated with an urban entity or health system the rural component may still apply as long the rural entity can directly receive and administer the grant funds in the rural area, be in complete control in the planning, program management and financial management of the project; and, the urban parent organization assures the Office of Rural Health Policy in writing that, for this project, they will exert no control over or demand collaboration with the rural entity; or (2) the organization must be constituted exclusively to provide services to migrant and seasonal farm workers in rural areas and supported under Section 330(g) of the Public Health Service Act (these organizations are eligible regardless of the urban or rural location of the administrative headquarters); or (3) the project services will be delivered on Federally-designated tribal lands. For all grants, not less than 50 percent of the award must be spent in a rural area or to provide services to residents of rural areas.

Funding Priorities and/or Preferences: Funding preference may be given to applicant networks that include: (1) A majority of the health care providers serving in the area or region to be served by the network; (2) any Federally-qualified health centers, rural health clinics, and local public health departments serving in the area or region; (3) outpatient mental health providers serving in the area or region; or (4) appropriate social service providers, such as agencies on aging, school systems, and providers under the women, infants, and children program (WIC), to improve access to and coordination of health care services.

Special Considerations: Applicant organization must be located in a rural area and the proposed project must be directed to and services must remain in the rural area. (A list of eligible rural areas is included in application packet.)

Review Criteria: Final review criteria are included in the application kit.

Estimated Amount of This Competition: $6,207,553.

Estimated Number of Awards: 31 for FY 2002 and 33 for FY 2003.

Estimated or Average Size of Each Award: $182,000.

Estimated Project Period: 3 years.

CFDA Number: 93.912B.

Application Availability Date: 06/15/01 for FY 2002 and 6/17/02 for FY 2003.

Application Deadline: October 5, 2001 for the FY 2002 competition and September 20, 2002 for the FY 2003 competition.

Projected Award Date: 05/01/02 for FY 2002 and 05/01/03 for FY 2003.

Program Contact Person: Lilly Smetana.

Phone Number: (301) 443-0835.

E-mail: lsmetana@hrsa.gov.

Rural Health Outreach Grant 93.912A

Legislative Authority: Section 330A of The Public Health Service Act, 42 U.S.C. 254c.

Purpose: The purpose of this grant program is to expand access to, coordinate, restrain the cost of, and improve the quality of essential health care services, including preventive and emergency services, through the development of health care networks in rural areas and regions. Funds are available for projects to support the direct delivery of health care and related services, to expand existing services, or to enhance health service delivery through education, promotion, and prevention programs. The emphasis of this program is on the actual delivery of specific services rather than the development of organizational capabilities. Networks may comprise the same providers (e.g., all hospitals) or more diversified networks.

Eligibility: Rural public or nonprofit private organizations that are part of a network of at least three entities that support the delivery of health care services and will work together to complete the proposed project are eligible. Geographic eligibility requirements are (1) The lead applicant organization must be located in a rural area or in a rural zip code of an urban county (list included in the application materials) and all services must be provided in a rural county. If the applicant is owned by or affiliated with an urban entity or health system the rural component may still apply as long the rural entity can directly receive and administer the grant funds in the rural area, be in complete control in the planning, program management and financial management of the project; and, the urban parent organization assures the Office of Rural Health Policy in writing that, for this project, they will exert no control over or demand collaboration with the rural entity; or (2) the organization must be constituted exclusively to provide services to migrant and seasonal farm workers in rural areas and supported under Section 330(g) of the Public Health Service Act (these organizations are eligible regardless of the urban or rural location of the administrative headquarters); or (3) the project services will be delivered on Federally-designated tribal lands. For all grants, not less than 50 percent of the award must be spent in a rural area or to provide services to residents of rural areas.

Funding Priorities and/or Preferences: Funding preference may be given to applicant networks that include: (1) A majority of the health care providers serving in the area or region to be served by the network; (2) Federally-qualified health centers, rural health clinics, and local public health departments serving in the area or region; (3) outpatient mental health providers serving in the area or region; or (4) appropriate social service providers, such as agencies on aging, school systems, and providers under the women, infants, and children program (WIC), to improve access to and coordination of health care services.

Special Considerations: Applicant organization must be located in a rural area and the proposed project must be directed to and services must remain in the rural area. (A list of eligible rural areas is included in application packet.) Review Criteria: Final review criteria are included in the application kit.

Estimated Amount of This Competition: $6,207,553.

Estimated Number of Awards: 31 for FY 2002 and 33 for FY 2003.

Estimated or Average Size of Each Award: $185,000.

Estimated Project Period: 3 years.

CFDA Number: 93.912A.

Application Availability Date: June 15, 2001 for FY 2002 and June 17, 2002 for FY 2003.

Application Deadline: September 28, 2001 for the FY 2002 competition and September 13, 2002 for the FY 2003 competition.

Projected Award Date: May 01, 2002 for FY 2002 and May 01, 2003 for FY 2003.

Program Contact Person: Lilly Smetana.

Phone Number: (301) 443-0835.

E-mail: lsmetana@hrsa.gov.

Primary Health Care Programs

Community and Migrant Health Centers 93.224 and 93.246

Legislative Authority: Public Health Service Act, Title III, Section 330, 42 U.S.C. 254b.

Purpose: The Community Health Center and Migrant Health Center (C/MHC) programs are designed to promote the development and operation of community-based primary health care service systems in medically underserved areas for medically underserved populations. It is the intent of HRSA to continue to support health services in these areas, given the unmet need inherent in their provision of services to medically underserved populations. HRSA is committed to 100 percent access to primary care services with zero health disparities for the underserved. HRSA will open competition for awards under Section 330 of the Public Health Service Act for community and migrant centers to support health services in the areas served by these grants. Section 330(g) has additional criteria for migrant health centers. Two-hundred twenty-four C/MHC grantees will reach the end of their project period during FY 2002. Applications are due 120 days before the expiration date.

Eligibility: Applicants are limited to currently funded programs whose project periods expire during FY 2002 and new organizations proposing to serve the same areas or populations currently being served by these existing programs.

Special Considerations: Communication with field office staff is essential for interested parties in deciding whether to pursue Federal funding as a C/MHC. Technical assistance and detailed information about each service area, such as census tracts, can be obtained by contacting the HRSA Field Office.

Review Criteria: Final review criteria are included in the application kit.

Estimated Amount of This Competition: $223,000,000.

Estimated Number of Awards: 224.

Estimated or Average Size of Each Award: $1,000,000.

Estimated Project Period: 1 to 5 years.

CFDA Number: 93.224 and 93.246.

Application Availability Date: Continuous.

Application Deadline: Varies.

Projected Award Date: Varies.

Program Contact Person: 93.224, Cephas Goldman; 93.246, George Ersek.

Phone Number: Goldman, (301) 594-4300; Ersek, (301) 594-4301.

E-mail: rbohrer@hrsa.gov.

City | State | Expiration date
HRSA Boston Field Office—(617) 565-1482:
Roxbury | MA | 12/31/2001
Willimantic | CT | 12/31/2001
Lubec | ME | 12/31/2001
Roxbury | MA(2) | 1/31/2002
Holyoke | MA | 1/31/2002
Allston | MA | 1/31/2002
Truro | MA | 1/31/2002
Hartford | CT | 1/31/2002
Waterbury | CT | 2/28/2002
Turners Falls | MA | 3/31/2002
Patten | ME | 3/31/2002
Harrington | ME | 3/31/2002
Worcester | MA | 3/31/2002
Peabody | MA | 3/31/2002
Augusta | ME | 3/31/2002
New Bedford | MA | 5/31/2002
New Haven | CT | 5/31/2002
Brockton | MA | 6/30/2002
Manchester | NH | 6/30/2002
HRSA New York Field Office—(212) 264-2664
Cortland | NY | 11/30/2001
Newark | NJ | 11/30/2001
Brockport | NY | 12/31/2001
Rochester | NY | 12/31/2001
Mt. Vernon | NY | 12/31/2001
Brooklyn | NY | 12/31/2001
Buffalo | NY | 12/31/2001
Camden | NJ | 12/31/2001
Mayaguez | PR | 1/31/2002
New York | NY | 1/31/2002
Brooklyn | NY | 1/31/2002
Camuy | PR | 1/31/2002
Hatillo | PR | 1/31/2002
Morovis | PR | 1/31/2002
Bronx | NY | 1/31/2002
New York | NY | 2/28/2002
St. Thomas | VI | 2/28/2002
Patillas | PR | 3/31/2002
Arverne | NY | 3/31/2002
Brooklyn | NY | 3/31/2002
Santurce | PR | 3/31/2002
Trenton | NJ | 3/31/2002
Loiza | PR | 5/31/2002
West New York | NJ | 6/30/2002
Brooklyn | NY | 6/30/2002
Gurabo | PR | 6/30/2002
HRSA Philadelphia Field Office—(215) 861-4422
Chambersburg | PA | 11/30/2001
Philadelphia | PA | 11/30/2001
Baltimore | MD | 11/30/2001
Camden-on-Gauley | WV | 11/30/2001
Washington | DC | 11/30/2001
Boydton | VA | 12/31/2001
Richmond | VA | 12/31/2001
Victoria | VA | 12/31/2001
Denton | MD | 12/31/2001
Chester | PA | 1/31/2002
Bastian | VA | 1/31/2002
Wilmington | DE | 1/31/2002
Gary | WV | 1/31/2002
Axton | VA | 1/31/2002
Pittsburgh | PA | 1/31/2002
Franklin | WV | 2/28/2002
Pittsburgh | PA | 2/28/2002
Dover | DE | 3/31/2002
Susquehanna | PA | 3/31/2002
Ivor | WA | 3/31/2002
New Holland | PA | 3/31/2002
Princess Anne | MD | 5/31/2002
Erie | PA | 5/31/2002
Philadelphia | PA(2) | 5/31/2002
Williamsburg | WV | 5/31/2002
Blossburg | PA | 5/31/2002
Grafton | WV | 5/31/2002
Madake | WV | 5/31/2002
HRSA Atlanta Field Office—(404) 562-2996
Dade City | FL | 11/30/2001
Snow Hill | NC | 11/30/2001
Morgantown | GA | 11/30/2001
Mobile | AL | 11/30/2001
Fairmont | NC | 11/30/2001
Tylertown | MS | 11/30/2001
Makers | NC | 11/30/2001
Chapel Hill | NC | 11/30/2001
Huntsville | AL | 11/30/2001
Tuscaloosa | AL | 11/30/2001
Vanceburg | KY | 11/30/2001
Mantachie | MS | 11/30/2001
Belle Glade | FL | 12/31/2001
Coconut Grove | FL | 12/31/2001
Stone Mountain | GA | 12/31/2001
Miami Beach | FL | 12/31/2001
Miami | FL(2) | 1/31/2002
Nashville | TN(2) | 1/31/2002
Hattiesburg | MS | 1/31/2002
Pompano Beach | FL | 1/31/2002
Smithville | MS | 1/31/2002
Columbia | SC | 1/31/2002
Sebastopol | MS | 3/31/2002
West Palm Beach | FL | 3/31/2002
Newport | TN | 3/31/2002
Gadsden | AL | 3/31/2002
Raleigh | NC | 3/31/2002
Maynardville | TN | 3/31/2002
Whitesburg | KY | 3/31/2002
Sumterville | FL | 3/31/2002
Colbert | GA | 3/31/2002
Cookeville | TN | 3/31/2002
Linden | TN | 3/31/2002
Tallahassee/Wewahitchka | FL | 3/31/2002
Hendersonville | NC | 3/31/2002
Meridian | MS | 3/31/2002
Conway | SC | 3/31/2002
Charlotte | NC | 3/31/2002
Canton | MS | 5/31/2002
Port Gibson | MS | 5/31/2002
Shubuta | MS | 5/31/2002
Lake City | FL | 5/31/2002
St. Petersburg | FL | 5/31/2002
Atlanta | GA | 5/31/2002
Cumming | GA | 5/31/2002
Tallahassee | FL | 6/30/2002
Wrightsville | GA | 6/30/2002
Jacksonville | FL | 6/30/2002
Wilmington | NC | 6/30/2002
HRSA Chicago Field Office—(312) 353-1715
Chicago | IL(3) | 11/30/2001
East Chicago | IL | 11/30/2001
Akron | OH | 11/30/2001
Evansville | IN | 12/31/2001
Houghton Lake | MI | 12/31/2001
Cincinnati | OH | 12/31/2001
Marquette | MI | 1/31/2002
Chicago | IL | 1/31/2002
St. Paul | MN | 1/31/2002
Jackson | MI | 2/28/2002
Chicago | IL | 2/28/2002
Duluth | MN | 2/28/2002
Muncie | IN | 2/28/2002
Cleveland | OH | 2/28/2002
Bangor | MI | 3/31/2002
Christopher | IL | 3/31/2002
Flint | MI | 3/31/2002
Milwaukee | WI | 3/31/2002
Minneapolis | MN | 3/31/2002
Indianapolis | IN | 5/31/2002
Chicago | IL | 5/31/2002
Minong | WI | 5/31/2002
Ft. Wayne | IN | 6/30/2002
Muskegon Heights | MI | 6/30/2002
Lafayette | IN | 6/30/2002
Battle Creek | MI | 6/30/2002
HRSA Dallas Field Office—(214) 767-3872
Uvalde | TX | 11/30/2001
Dallas | TX | 11/30/2001
New Orleans | LA | 11/30/2001
Gonzales | TX | 11/30/2001
West Memphis | AR | 11/30/2001
Houston | TX | 12/31/2001
Albuquerque | NM | 12/31/2001
Brownsville | TX | 1/31/2002
Tierra Amarillo | NM | 1/31/2002
Portales | NM | 1/31/2002
Natchitoches | LA | 1/31/2002
Crystal City | TX | 3/31/2002
Harlingen | TX | 3/31/2002
Franklin | LA | 5/31/2002
Lake Charles | LA | 5/31/2002
Oklahoma City | OK(2) | 6/30/2002
Shreveport | LA | 6/30/2002
Lubbock | TX | 6/30/2002
Lordsburg | NM | 6/30/2002
El Paso | TX | 6/30/2002
HRSA Kansas City Field Office—(816) 426-5296
St. Louis | MO | 11/30/2001
Topeka | KS | 11/30/2001
Des Moines | IA | 1/31/2002
Sioux City | IA | 1/31/2002
St. Louis | MO | 1/31/2002
Ottumwa | IA | 2/28/2002
Kirksville | MO | 3/31/2002
Emporia | KS | 6/30/2002
Garden City | KS | 6/30/2002
Gering | NE | 6/30/2002
HRSA Denver Field Office—(303) 844-3203
Provo | UT | 12/31/2001
Englewood | CO | 12/31/2001
Casper | WY | 2/28/2002
Greeley | CO | 3/31/2002
Laramie | WY | 3/31/2002
Ogden | UT | 3/31/2002
Elk Point | SD | 3/31/2002
Pierre | SD | 5/31/2002
Missoula | MT | 6/30/2002
Livingston | MT | 6/30/2002
HRSA San Francisco Field Office—(415) 437-8090
Fresno | CA | 11/30/2001
San Mateo | CA | 11/30/2001
San Marcos | CA | 12/31/2001
Watsonville | CA | 12/31/2001
Marana | AZ | 12/31/2001
Bloomington | CA | 12/31/2001
Honolulu | HI | 1/31/2002
Point Reyes | CA | 2/28/2002
Ajo | AZ | 2/28/2002
Greenbrae | CA | 2/28/2002
Tulare | CA | 2/28/2002
Oakland | CA | 3/31/2002
Honolulu | HI | 3/31/2002
Nipomo | CA | 5/31/2002
Irvine | CA | 5/31/2002
Berkeley | CA | 6/30/2002
Flagstaff | AZ | 6/30/2002
Elfrida | AZ | 6/30/2002
Redding | CA | 6/30/2002
HRSA Seattle Field Office—(206) 615-2491
Anchorage | AK | 11/30/2001
Twin Falls | ID | 1/31/2002
Seattle | WA(2) | 1/31/2002
Moses Lake | WA | 3/31/2002
Okanogan | WA | 3/31/2002
Pocatello | ID | 3/31/2002
Oregon City | OR | 6/30/2002
Anchorage | AK | 6/30/2002
Longview | WA | 6/30/2002

Health Care for the Homeless 93.151

Legislative Authority: Public Health Service Act, Title III, Section 330(h), 42 U.S.C. 254b(h).

Purpose: The Health Care for the Homeless (HCH) program is designed to increase the access of homeless populations to cost-effective, case managed, and integrated primary care and substance abuse services provided by existing community-based programs/providers. These organizations are committed to providing or arranging for 100 percent access to comprehensive health care and social services, and to eliminating health disparities for homeless people. It is the intent of HRSA to continue to support health services to the homeless people in these areas/locations given the continued need for cost-effective, community-based primary care services. Thirty-one HCH grantees will reach the end of their project period during FY 2002. Applications are due 120 days before the expiration date.

Eligibility: Applicants are limited to currently funded programs whose project periods expire during FY 2002 and new organizations proposing to serve the same areas and populations currently being served by these existing programs.

Special Considerations: Communication with field office staff is essential for interested parties in deciding whether to pursue Federal funding as an HCH program. Technical assistance and detailed information about each service area, such as census tracts, can be obtained by contacting the HRSA Field Office.

Review Criteria: Final review criteria are included in the application kit.

Estimated Amount of This Competition: $15,500,000.

Estimated Number of Awards: 31.

Estimated or Average Size of Each Award: $500,000.

Estimated Project Period: 1 to 5 years.

CFDA Number: 93.151.

Application Availability Date: Continuous.

Application Deadline: Varies.

Projected Award Date: Varies.

Program Contact Person: Monica Toomer.

Phone Number: (301) 594-4430.

E-mail: mtoomerz@hrsa.gov.

City | State | Expiration date
HRSA Boston Field Office—(617) 565-1482:
Willimantic | CT | 12/31/2001
New Haven | CT | 5/31/2002
HRSA New York Field Office—(212) 264-2664:
Newark | NJ | 10/31/2001
Mount Vernon | NY | 12/31/2001
Jersey City | NJ | 3/31/2002
Trenton | NJ | 3/31/2002
HRSA Philadelphia Field Office—(215) 861-4422:
Washington | DC | 11/30/2001
Pittsburgh | PA | 1/31/2002
Wilmington | DE | 1/31/2002
Erie | PA | 5/31/2002
HRSA Atlanta Field Office—(404) 562-2996:
Clearwater | FL | 10/31/2001
Nashville | TN | 10/31/2001
Mobile | AL | 11/30/2001
HRSA Chicago Field Office—(312) 353-1715:
Detroit | MI | 10/31/2001
Battle Creek | MI | 10/31/2001
Chicago | IL | 11/30/2001
Evansville | IN | 12/31/2001
Cincinnati | OH | 12/31/2001
St. Paul | MN | 1/31/2002
Flint | MI | 3/31/2002
Indianapolis | IN | 5/31/2002
HRSA Dallas Field Office—(214) 767-3872:
El Paso | TX | 6/30/2002
Lubbock | TX | 6/30/2002
HRSA San Francisco Field Office—(415) 437-8090:
Phoenix | AZ | 10/31/2001
Martinez | CA | 10/31/2001
Santa Barbara | CA | 10/31/2001
Oakland | CA | 10/31/2001
Oakland | CA | 10/31/2001
Sacramento | CA | 10/31/2001
Nipomo | CA | 5/31/2002
HRSA Seattle Field Office—(206) 615-2491:
Anchorage | AK | 11/30/2001

Public Housing Primary Care 93.927

Legislative Authority: Section 330(i) of the Public Health Service Act, 42 U.S.C. 254b(i).

Purpose: The mission of the Public Housing Primary Care (PHPC) program is to increase access to comprehensive primary and preventive health care and to improve the physical, mental and economic well-being of public housing residents. It is the intent of HRSA to continue to support health services to residents of public housing. The three priorities for promoting access to primary care and improving the well being of residents of public housing are: (1) Resident involvement and participation in program development and implementation; (2) innovative service delivery systems that address the special health needs of public housing residents; and (3) collaborations with other health, education and community-based organizations. Central to the program's past and future success is the commitment to the provision of health care that emphasizes improving the availability, accessibility, comprehensiveness, continuity, and quality of health service to residents of public housing.

Twelve PHPC grantees will reach the end of their project period during FY 2002. Applications are due 120 days before the expiration date.

Eligibility: Applicants are limited to currently funded programs whose project periods expire in FY 2002 and new organizations proposing to serve the same populations currently being served by these existing programs.

Funding Priorities and/or Preferences: Administrative funding preferences are included in the application materials.

Special Considerations: Communication with field office staff is essential for interested parties in deciding whether to pursue Federal funding as a PHPC. Technical assistance and detailed information about each service area, such as census tracts, can be obtained by contacting the HRSA Field Office.

Review Criteria: Final review criteria are included in the application kit.

Estimated Amount of This Competition: $4,800,000.

Estimated Number of Awards: 12.

Estimated or Average Size of Each Award: $400,000.

Estimated Project Period: 1 to 5 years.

CFDA Number: 93.927.

Application Availability Date: June 1, 2001.

Application Deadline: October 1, 2001.

Projected Award Date: February 1, 2002.

Program Contact Person: Evan R. Arrindell.

Phone Number: (301) 594-4334.

E-mail: rarrindell@hrsa.gov.

City | State | Expiration date
HRSA Boston Field Office—(617) 565-1482:
Roxbury | MA | 1/31/2002
New Haven | CT | 5/31/2002
HRSA New York Field Office—(212) 264-2664:
Brooklyn | NY | 3/31/2002
HRSA Philadelphia Field Office—(215) 861-4422:
Pittsburgh | PA | 1/31/2002
HRSA Atlanta Field Office—(404) 562-2996:
Birmingham | AL | 10/31/2001
Gadsden | AL | 3/31/2002
Atlanta | GA | 5/31/2002
HRSA Chicago Field Office—(312) 353-1715:
St. Paul | MN | 1/31/2002
HRSA Dallas Field Office—(214) 767-3872:
Monroe | LA | 8/31/2002
HRSA San Francisco Field Office—(415) 437-8090:
Honolulu | HI | 3/31/2002
San Diego | CA | 8/31/2002
HRSA Seattle Field Office—(206) 615-2491:
Seattle | WA | 1/31/2002

Healthy Schools, Healthy Communities Program—Competing Continuations 93.151A

Legislative Authority: Section 330 of the Public Health Services Act, 42 U.S.C. 254b.

Purpose: The purpose of the Healthy Schools, Healthy Communities (HSHC) program is to increase access to comprehensive primary and preventive health care to underserved children, adolescents, and families. Grants made under the HSHC program are awarded to public and private nonprofit community-based health care entities for the development and operation of school-based health centers (SBHCs). The HSHC programs and other Bureau of Primary Health Care (BPHC)-supported SBHC programs in the school or on school grounds on a full-time basis provide comprehensive primary and preventive health care services including mental health, oral health, ancillary, and enabling services. Theses services are culturally sensitive, appropriate, family oriented, and tailored to meet the health care needs of youth, adolescents, and the community. The array of provided services on-site is locally determined by school principals, school boards, parents, and providers, and referral arrangements are provided for services not available on-site. No SBHC services are provided without fully informed parental consent. By supporting educational efforts by making sure that children are ready to learn, SBHCs are (1) Part of an integrated system of care and provide continuity of care to assure after hours and year round coverage, and (2) proven to provide access to confidential and comprehensive preventive and primary health services. The BPHC is opening the competition for Federal funds to provide services through the HSHC Program. The goal of this competition is to provide the best possible health care services to students and families; to ensure that Federal funds are utilized most effectively and efficiently; and to ensure that HSHC grantees are prepared and equipped to handle the challenges of the future. Applications are due 120 days before the expiration date.

Eligibility: Applicants are limited to currently funded programs whose project periods expire in FY 2002 and new organizations proposing to serve the same populations currently being served by these existing programs.

Funding Priorities or Preferences: Final administrative funding preferences are included in the application materials.

Special Considerations: Communication with Field Office staff is essential for interested parties in deciding whether to pursue Federal funding as a HSHC program. Technical assistance and detailed information about each service area, such as census tracts, can be obtained by contacting the HRSA Field Office.

Estimated Amount of This Competition: $2,700,000.

Estimated Number of Awards: 9.

Estimated or Average Size of Each Award: $300,000.

Estimated Project Period: 3 years.

CFDA Number: 93.151A.

Application Availability Date: Continuous.

Application Deadline: Varies.

Project Award Date: Varies.

Program Contact Person: Darryl Burnett.

Phone: (301) 594-4449.

Email: dburnett@hrsa.gov.

City | State | Expiration date
HRSA Boston Field Office—(617) 565-1482:
Boston | MA | 6/30/2002
HRSA New York Field Office—(212) 264-2664:
Bronx | NY | 6/30/2002
New York | NY | 6/30/2002
HRSA Philadelphia Field Office—(215) 861-4422:
Denton | MD | 12/31/2001
HRSA Atlanta Field Office—(404) 562-2996:
Wilmington | NC | 6/30/2002
HRSA Chicago Field Office—(312) 353-1715:
Milwaukee | WI | 6/30/2002
HRSA Dallas Field Office—(214) 767-3872:
Albuquerque | NM | 6/30/2002
HRSA San Francisco Field Office—(415) 437-8090:
Campbell | CA | 6/30/2002
HRSA Seattle Field Office—(206) 615-2491:
Medford | OR | 6/30/2002

New Delivery Sites and New Starts in Programs Funded Under the Health Centers Consolidation Act 93.224, 93.246, 93.151, 93.927, 93.151A

Legislative Authority: Section 330 Public Health Service Act, 42 U.S.C. 254b.

Purpose: The purpose of this program is to support the establishment of new service delivery sites in each of the Health Center programs funded under section 330 of the Public Health Service Act. These programs include: (1) Community Health Centers, section 330(e); (2) Migrant Health Centers, section 330(g); (3) Health Care for the Homeless program, section 330(h); (4) Public Housing Primary Care, section 330(i); and (5) Healthy School, Healthy Communities program, section 330(e). The populations served by these programs are: (1) Medically underserved populations including medically underserved populations in urban and rural areas; (2) migratory and seasonal agricultural workers and their families; (3) homeless people, including children and families; (4) residents of public housing; and (5) students attending schools (K-12) that serve low income and high-risk children. The purpose of the Health Center program is to extend comprehensive preventive and primary health services, (including mental health, substance abuse, and oral health services) and supplemental services to populations currently without access to such services and to improve their health status. The HRSA will support new service delivery sites operated by existing health centers or through newly established health centers.

Matching or Cost Sharing Requirement: Communities seeking support are strongly encouraged to promote and seek outside funding and are required to maximize third party revenue to establish and maintain new service delivery sites.

Eligibility: Public and private nonprofit entities are eligible to apply.

Funding Priorities and/or Preferences: Final priorities and/or preferences are included in the application materials.

Review Criteria: Final review criteria are included in the application kit.

Estimated Amount of This Competition: $43,000,000.

Estimated Number of Awards: 100.

Estimated or Average Size of Each Award: $350,000 to $650,000.

Estimated Project Period: 2 years or consistent with existing project period for currently funded organizations.

CFDA Number: 93.224, 93.246, 93.151, 93.927, 93.151A.

Application Availability Date: July 2001.

Letter of Intent Deadline: The letter of intent deadline is ongoing. Letters of intent are encouraged for organizations seeking funding for a new delivery site. Letters of intent will be accepted beginning July 31, 2001. The submission of a letter of intent is recommended but not required in order to submit an application to compete for funds in FY 2002. Information requirements to be included in the letter of intent submissions will be available in the application guidance.

Application Deadline: Applications will be accepted beginning October 1, 2001. Applications received by November 15, 2001, will be reviewed with funding decisions announced by February 28, 2002. Applications received by January 31, 2002 will be reviewed with funding decisions announced by April 30, 2002. Applications received by April 30, 2002 will be reviewed with funding decisions announced by July 31, 2002. Applications received after April 30, 2002 will be considered for funding in FY 2003, depending on the availability of funds.

Projected Award Date: See above.

Program Contact Person: 93.224, Tonya Bowers; 93.246, George Ersek; 93.151, Jean Hochron; 93.927, Evan R. Arrindell; 93.151A, Sheri Downing-Futrell.

Phone Numbers: (301) 594-4329, Bowers; (301) 594-4303, Ersek; (301) 594-4437, Hochron; (301) 594-4334, Arrindell; (301) 594-4468, Downing-Futrell.

E-mail: tbowers@hrsa.gov; gersek@hrsa.gov; jhochron@hrsa.gov; earrindell@hrsa.gov; sdowning-futrell@hrsa.gov.

Increase in Medical Capacity in Programs Funded Under the Health Centers Consolidation Act of 1996 93.224, 93.246

Legislative Authority: Section 330 of the Public Health Service Act, 42 U.S.C. 254b.

Purpose: The HRSA is committed to achieving 100 percent access to health care for the underserved and to pledging new funding to strengthen the health care safety net through Community and Migrant Health Centers (C/MHC). C/MHCs extend preventive and primary health services to populations currently without such services and improve the health status of medically underserved individuals. One way of achieving these goals and reaching new users of health centers is to approve funding increases for existing C/MHC grantees who provide a plan for achieving increased medical capacity within their existing C/MHC current service area. Applicants for funding increases will be asked to demonstrate need, present a definitive medical capacity expansion strategy, provide evidence of the organization's readiness and capacity for expansion, and present a sound business plan for accomplishing increases in the number of people served.

Eligibility:Applicants are limited to currently funded community and migrant health centers (i.e.,> those organizations funded under sections 330(e) and 330(g).

Funding Priorities or Preferences: Final priorities and/or preferences are included in the application materials.

Estimated Amount of This Competition: Up to $40,000,000.

Estimated Number of Awards: 125 to 150.

Estimated or Average Size of Each Award: $250,000 to $350,000

CFDA Number: 93.224, 93.246.

Application Availability Date: 7/20/01.

Application Deadlines: Applications will be accepted from grantees no later than October 1, 2001.

Program Contact Person: 93.224, Janet Wetmore; 93.246, George Ersek.

Phone Numbers: (301) 594-4340, Janet Wetmore; (301) 594-4301, George Ersek.

Email: jwetmore@hrsa.gov; gersek@hrsa.gov.

Healthy Schools, Healthy Communities Planning and Capacity Development Grants

Legislative Authority: Section 330 of the Public Health Service Act, 42 U.S.C. 254.

Purpose: The purpose of this grant program is to support communities and health care service entities through the planning process, to develop full service school-based health centers which will offer comprehensive primary and preventive health care, including mental and oral health services. The Planning and Capacity Development grant is not an operational grant; it will not support any type of service delivery or patient care activities. Applications must propose activities which will lead to the establishment of full service school-based health centers in accordance with community needs and consolidated health center program expectations that improve access to care.

Eligibility: Eligible applicants must currently be funded under section 330 of the Public Health Service Act. Applicants cannot be current Healthy Schools, Healthy Communities grant recipients; have not operated a school-based health center within the last 3 years; and must target medically underserved areas or populations.

Funding Priorities or Preferences: Final administrative preferences are included in the application materials.

Estimated Amount of This Competition: $700,000.

Estimated Number of Awards: 15.

Estimated or Average Size of Each Award: $50,000.

Estimated Project Period: 1 year.

CFDA Number: N/A.

Application Availability Date: January 1, 2002.

Letter of Intent Deadline: January 31, 2002.

Application Deadline: March 20, 2002.

Projected Award Date: July 1, 2002.

Program Contact Person: LaVerne M. Green.

Phone Number: (301) 594-4470.

E-mail: lgreen@hrsa.gov.

Grants to States for Loan Repayment Programs 93.165

Legislative Authority: Public Health Service Act, Title III, Section 338I, 42 U.S.C. 254q-1.

Purpose: The purpose of these grant funds is to assist States in operating programs for the repayment of educational loans of health professionals in return for their practice in Federally-designated health professional shortage areas to increase the availability of primary health services in such areas. Of the estimated 36 awards, 5 are project period renewals. Further information about these activities can be obtained from the contact person.

Matching or Cost Sharing Requirement: States seeking support must provide adequate assurances that, with respect to the costs of making loan repayment under contracts with health professionals, the State will make available (directly or through donations from public or private entities) non-Federal contributions in cash in an amount equal to not less than $1 for $1 of Federal funds provided in the grant. In determining the amount of non-Federal contributions in cash that a State has to provide, no Federal funds may be used in the State's match.

Eligibility: All States are eligible to apply for funding.

Special Considerations: See matching or Cost Sharing Requirements above.

Review Criteria: Final review criteria are included in the application kit.

Estimated Amount of This Competition: $1,000,000.

Estimated Number of Awards: 5.

Estimated or Average Size of Each Award: $200,000.

Estimated Project Period: 3 years.

CFDA Number: 93.165.

Application Availability Date: April 1, 2002.

Application Deadline: May 15, 2002.

Projected Award Date: August 31, 2002.

Program Contact Person: Jackie Brown.

Phone Number: (301) 594-4400.

E-mail: jbrown1@hrsa.gov.

Black Lung Clinics 93.965

Legislative Authority: Section 427(a) of the Black Lung Benefits Reform Act of 1977, 30 U.S.C. 937(a).

Purpose: The primary purpose of the Black Lung Clinics grant program is to provide treatment and rehabilitation for Black Lung patients and others with occupationally-related pulmonary diseases. In addition, individual grantee programs are expected to include case finding and outreach, preventive and health promotion services, education for patients and their families, and testing to determine eligibility for Department of Labor or State benefits. Although the number of active coal miners has decreased substantially because of mechanization, there has been an increase in the number of retired coal miners with the disease and in the number of pulmonary patients from other occupations. A current objective of the program is to expand outreach so that more of the eligible population is made aware of the services offered by the grantee clinics.

Eligibility: Health clinics that provide diagnosis, treatment, and rehabilitation of active and retired coal miners with respiratory and pulmonary impairments are eligible.

Funding Priorities and/or Preferences: Priority will be given to clinics that provide a combination of services, i.e., outreach, testing, treatment, and rehabilitation.

Review Criteria: Final review criteria are included in the application kit.

Estimated Amount of This Competition: $6,000,000.

Estimated Number of Awards: 13.

Estimated or Average Size of Each Award: $460,000.

Estimated Project Period: 3 years.

CFDA Number: 93.965.

Application Availability Date: January 07, 2002.

Application Deadline: Varies.

Projected Award Date: Varies.

Program Contact Person: Sharley Chen.

Phone Number: (301) 594-4424.

E-mail: schen@hrsa.gov.

City | State | Expiration date
HRSA Philadelphia Field Office—(215) 861-4422:
Harrisburg | PA | 6/30/2002
Fredericktown | PA | 6/30/2002
Charleston | WV | 8/31/2002
St. Charles | VA | 8/31/2002
HRSA Atlanta Field Office—(404) 562-2996:
Whitesburg | KY | 6/30/2002
Birmingham | AL | 8/31/2002
Greenville | KY | 8/31/2002
HRSA Chicago Field Office—(312) 353-1715:
Princeton | IN | 6/30/2002
Chicago | IL | 6/30/2002
Columbus | OH | 8/31/2002
Caterville | IL | 8/31/2002
HRSA Dallas Field Office—(214) 767-3872:
Raton | NM | 8/31/2002
HRSA Denver Field Office—(303) 844-3203:
Worland | WY | 6/30/2002

National Health Center Technical Assistance Cooperative Agreement 93.130A

Legislative Authority: Public Health Service Act, Title III, Section 330(k), 42 U.S.C. 254b(k).

Purpose: The Health Center programs deliver cost effective, high quality primary health care to underserved, vulnerable, low income, and minority populations. HRSA supports technical and non-financial assistance to Federally-funded Health Centers to assist in these efforts. This technical assistance announcement is for a participatory evaluation and action project to assess how the nation's Health Centers and other safety net resources are being restructured to deliver 100 percent access to care and zero health disparities; how to improve the operations and management of Federally-funded Health Centers through in this community-by-community restructuring; and how to replicate and accelerate proven best practices for achieving the 100 percent access/zero disparities goals with resources already in place. Further information about this activity will be available in the application guidance.

Federal Involvement: Substantial Federal involvement will be detailed in the application materials.

Eligibility: Public and private nonprofit entities are eligible.

Review Criteria: Final review criteria are included in the application kit.

Estimated Amount of This Competition: $500,000.

Estimated Number of Awards: 1.

Estimated or Average Size of Each Award: $500,000.

Estimated Project Period: 1 to 5 years.

CFDA Number: 93.130A.

Application Availability Date: August 1, 2001.

Application Deadline: October 1, 2001.

Projected Award Date: December 1, 2001.

Program Contact Person: Dennis Wagner.

Phone Number: (301) 594-4121.

Email: dwagner@hrsa.gov.

Exhibit and Conference/Meeting Information

HRSA's exhibit schedule and HRSA-sponsored conferences and meetings can be accessed online at http://www.hrsa.gov/newsroom/calendar.htm. For more information, contact Steve Merrill at smerrill@hrsa.gov.

HRSA's Field Offices

Northeast Cluster

Philadelphia Field Office—Field Director, Vincent C. Rogers—(215) 861-4422

Boston Field Office—Assistant Field Director, Kenneth Brown—(617) 565-1420

New York Field Office—Assistant Field Director, Ron Moss—(212) 264-3032

Southeast Cluster

Atlanta Field Office—Field Director, Ketty M. Gonzalez—(404) 562-7972

Midwest Cluster

Chicago Field Office—Field Director, Deborah Willis-Fillinger—(312) 353-6835

Kansas City Field Office—Assistant Field Director, Hollis Hensley—(816) 426-5226

West Central Cluster

Dallas Field Office—Field Director, Frank Cantu—(214) 767-3872

Denver Field Office—Assistant Field Director, Jerry Wheeler—(303) 844-3203

Pacific West Cluster

San Francisco Field Office—Field Director, Thomas Kring—(415) 437-8090

Seattle Field Office—Assistant Field Director, Richard Rysdam (Acting)—(206) 615-2491

Related World Wide Web Addresses

HRSA Preview Online

http://www.hrsa.gov/grants.htm

HRSA Home Page

http://www.hrsa.dhhs.gov

DHHS Home Page

http://www.os.dhhs.gov

Grantsnet

http://www.hhs.gov/progorg/grantsnet/index.html

PHS Grants Policy Statement

http://www.nih.gov/grants/policy/gps

Catalog of Federal Domestic Assistance (CFDA)

http://www.gsa.gov/fdac

Code of Federal Regulations

http://www.access.gpo.gov/nara/cfr/cfr-table-search.html

OMB Circulars

http://www.whitehouse.gov/WH/EOP/omb

http://www.whitehouse.gov/omb/grants/index.html#circulars

Federal Register

http://www.access.gpo.gov/su_docs/aces/aces140.html

Healthfinder

http://www.healthfinder.gov

Fedworld Information Network

http://www.fedworld.gov

State Single Points of Contact (SPOC)

http://thomas.loc.gov

[FR Doc. 01-19748 Filed 8-8-01; 8:45 am]

BILLING CODE 4165-15-P